DEPARTMENT OF THE INTERIOR

Fish and Wildlife Service

Refuge Planning Policy Pursuant to the National Wildlife Refuge System Administration Act as Amended by the National Wildlife Refuge System Improvement Act of 1997

AGENCY: Fish and Wildlife Service, Interior.

ACTION: Notice.

SUMMARY: The U.S. Fish and Wildlife Service (Service or we) establishes requirements and guidance for National Wildlife Refuge System planning, including Comprehensive Conservation Plans (CCPs) and step-down management plans. This policy, which incorporates the CCP provisions of the National Wildlife Refuge System Administration Act, as amended, replaces Part 602 Chapters 1, 2, and 3 of the Fish and Wildlife Service Manual. The new policy will appear as Part 602 Chapters 1, 3, and 4.

Our policy for managing units of the National Wildlife Refuge System (Refuge System) is that we will manage all refuges in accordance with an approved CCP which, when implemented, will achieve refuge purposes; help fulfill the Refuge System mission; maintain and, where appropriate, restore the ecological integrity of each refuge and the Refuge System; help achieve the goals of the National Wilderness Preservation System; and meet other mandates. The CCP will guide management decisions and set forth goals, objectives, and strategies to accomplish these ends. We also may require step-down management plans to provide additional guidance for meeting CCP goals and objectives and to describe strategies and implementation schedules. Each plan will be consistent with principles of sound fish and wildlife management, available science, legal mandates, and our other policies, guidelines, and planning documents. We will prepare refuge plans that, above all else, ensure that wildlife comes first on national wildlife refuges.

DATES: This policy is effective upon publication in the Federal Register.

FOR FURTHER INFORMATION CONTACT: We will send a copy of the Fish and Wildlife Service Manual chapters on Refuge System planning to those who submitted comments on the draft policy and to anyone who would like to receive them. Please contact Liz Bellantoni, Refuge Planning Coordinator, Division of Refuges, U.S. Fish and Wildlife Service, at (703) 358-2422 if you would like to receive a copy. In addition, these chapters will be available on the Refuge System web site (http://refuges.fws.gov [select link to “Manual/Policies: Refuge Planning Policy']).

SUPPLEMENTARY INFORMATION: The National Wildlife Refuge System Administration Act of 1966 as amended by the National Wildlife Refuge System Improvement Act of 1997, 16 U.S.C. 668dd-668ee (Refuge Administration Act), provides an “Organic Act” for the National Wildlife Refuge System. It clearly establishes that wildlife conservation is the principal mission of the Refuge System; provides guidance to the Secretary of the Interior for management of the Refuge System; reinforces the importance of comprehensive planning for all units of the Refuge System; and gives Refuge Managers uniform direction and procedures for making decisions regarding wildlife conservation and uses of the Refuge System.

Planning and the Refuge Administration Act

Except for those refuges in Alaska (which are subject to the refuge planning provisions of the Alaska National Interest Lands Conservation Act [ANILCA]), the Refuge Administration Act requires that we manage all national wildlife refuges according to an approved CCP. We will prepare a CCP by October 2012 for each refuge in existence at the time of passage of the National Wildlife Refuge System Improvement Act. For refuges established after passage of this Act, we will prepare CCPs when we staff the refuge and acquire a land base sufficient to achieve refuge purposes, but no later than 15 years after establishment of the refuge. The Refuge Administration Act also requires that we provide an opportunity for active public involvement during the preparation and revision of CCPs. These plans will guide management decisions and establish strategies for achieving the mission of the Refuge System and the purposes of each refuge unit.

Purpose of This Policy

This policy establishes requirements and guidance for National Wildlife Refuge System planning, including CCPs and step-down management plans, and ensures that planning efforts comply with the provisions of the Refuge Administration Act.

Response to Comments Received

On August 13, 1999, we published a notice in the Federal Register (64 FR 44368) to establish requirements and guidance for Refuge System planning, including CCPs and step-down management plans. During the 60-day comment period, we received 41 comments from the following sources: non-government organizations (16), State agencies (14), Service employees (5), other Federal agencies (1), private citizens (4), and commercial businesses (1). Key points raised by the public and addressed in the final policy include:

• placing greater emphasis on wildlife first and elevating our commitment to maintain and, where appropriate, restore the ecological integrity of each refuge and the Refuge System as mandated by the National Wildlife Refuge System Improvement Act of 1997;

• basing management decisions on a thorough assessment of available science;

• defining our relationship with States and other agencies and their programs;

• identifying biological information necessary for planning and management;

• clarifying under what conditions we should revise a CCP;

• expediting or further clarifying our planning process;

• describing the relationship of CCPs to refuge purposes and Refuge System mission; and

• addressing issues related to recreation and public use.

We reviewed and considered all substantive comments received. Following are public comments and our responses grouped under eight broad headings:

I. Placing Greater Emphasis on Wildlife First and Elevating Our Commitment to Maintain and, Where Appropriate, Restore the Ecological Integrity of Each Refuge and the Refuge System as Mandated by the National Wildlife Refuge System Improvement Act of 1997

Comment: The Service's drafting of the proposed planning policy is pursuant to the mandates contained in the National Wildlife Refuge System Improvement Act of 1997. The first and foremost goal of the Refuge Improvement Act is to ensure that wildlife conservation is the principal mission of the Refuge System. Although the Refuge Improvement Act established a hierarchy of appropriate and compatible wildlife-dependent uses of a refuge, wildlife conservation is paramount and every aspect of the Service's planning process must reflect this principal goal. The planning process should be preceded by, and indeed founded upon, first establishing the wildlife and ecological priorities of the refuge. Then the plan should consider certain public uses deemed compatible with the refuge purpose, the Refuge System mission, and the particular conditions of the refuge. This is particularly important since the CCP process includes the drafting or recertification of compatibility determinations.

Response: We have strengthened Section 1.5, “What are the goals of refuge planning?,” by adding as the very first goal, “A. To ensure that wildlife comes first in the National Wildlife Refuge System.” We have strengthened Section 3.3 (formerly Section 2.3), “What are our goals for Comprehensive Conservation Planning?,” by revising goal A. to read: “To ensure that wildlife comes first in the National Wildlife Refuge System and that we manage each refuge to help fulfill the mission of the Refuge System; maintain and, where appropriate, restore the ecological integrity of each refuge and the Refuge System; as well as achieve the specific purposes for which the refuge was established.”

Comment: The draft planning policy should be revised each and every place where it pledges allegiance to the mission of the Refuge System and purposes of the individual refuges in order to also ensure that the planning process will advance the maintenance and restoration of biological integrity, diversity, and environmental health. For example, Section 602 FW 1.3 should be modified to state that, “We will manage all refuges in accordance with an approved CCP which, when implemented, will achieve refuge purposes, fulfill the System mission, maintain and restore biological integrity, diversity, and environmental health, and meet all other relevant mandates. The CCP will guide management decisions and set forth goals, objectives, and strategies to accomplish these ends * * *.”

Response: We have incorporated similar language into the final policy. We are now using the term “ecological integrity” in lieu of the phrase “biological integrity, diversity, and environmental health.”

Comment: Reword Section 602 FW 1.5 B to state that the goal of refuge planning is “To help ensure that we restore and maintain the biological integrity, diversity, and environmental health of each refuge and the Refuge System, and contribute to the conservation of the structure and function of the ecosystems of the United States.”

Response: We have revised the text with modification. See 602 FW 1.5 C.

Comment: Reword Section 602 FW 1.6 B to define the term CCP as “A document that describes the desired future conditions of the refuge and provides long-range guidance and management direction to accomplish the purposes of the refuge, fulfill the mission of the System, restore and maintain the biological integrity, diversity, and environmental health of each refuge and the Refuge System, and meet other relevant mandates.”

Response: We have revised the text with modification. See 602 FW 1.6 E.

Comment: Amend Section 602 FW 1.7 D, 2.1, 2.3 B, 2.4 A, 2.4 C (1)(b), (c), and (d)(ii), 2.4 C (4), 2.4 C (4)(d), and 2.4 C (7) to highlight the restoration and maintenance of biological integrity, diversity, and environmental health as a major feature of CCPs.

Response: We have amended the text where appropriate. See Section 602 FW 1.7 D, 3.1 (formerly 2.1), 3.3 A (formerly 2.3 B), 3.4 A (formerly 2.4 A), and 3.4 C (1)(d) (formerly 2.4 C (1)(c)).

Comment: Reword Section 602 FW 2.4 C (1)(f) to require that CCPs set goals for appropriate indices of biological integrity, diversity, and environmental health.

Response: We have incorporated similar language into the final policy. See 602 FW 3.4 C (1)(g).

Comment: Reword Section 602 FW 2.4 C (1)(g) to require that CCPs identify additional problems, e.g., “Identify any significant problems that may adversely affect the population and habitats of fish, wildlife, and plants (including candidate, threatened, and endangered species), the biological integrity, diversity, and environmental health or the wilderness characteristics within the planning unit, and the actions necessary to correct or mitigate such problems.”

Response: We have addressed the need to identify and describe these problems in Section 3.4 C (1)(e)(x) and (xii) (formerly 2.4 C (1)(d)).

Comment: Reword Section 2.4 C (4)(d) to require that CCPs set objectives for appropriate indices of biological integrity, diversity, and environmental health.

Response: We believe this is more appropriately done at the goal-setting level and have revised the text in Section 3.4 C (1)(g) (formerly 2.4 C (1)(f)) accordingly.

Comment: The policies that guide the refuge planning process must, above all else, ensure that CCPs put wildlife first. The draft planning policy makes an important start towards accomplishing this end, but should be modified in several places to drive home this point more explicitly and emphatically.

Response: We have modified the final policy in various places to emphasize that we will prepare CCPs that, above all else, ensure that wildlife comes first on national wildlife refuges. See 602 FW 1.3, 1.4 A, and 1.5 A, and 602 FW 3.3 A.

Comment: Existing language in the draft policy regarding the proposed action is inappropriately and inexplicably weak. Section 602 FW 2.4 C (4)(c) should be reworded to reflect that the planning team shall select as the proposed action in each CCP the alternative that best achieves planning unit purposes, vision and goals; fulfills the Refuge System mission; maintains and restores biological integrity, diversity, and environmental health; addresses the significant issues and relevant mandates, and is consistent with principles of sound fish and wildlife management.

Response: We strengthened the language in the final policy as suggested, with minor modification. See 602 FW 3.4 C (4)(c).

Comment: Section 2.4 C (1)(c) should be modified to place the emphasis on meeting refuge purposes, Refuge System mission, and ecological integrity.

Response: We made a related change in the final policy. See 602 FW 3.4 C (1)(d).

Comment: The planning policy appropriately makes conservation of biological diversity a major goal of refuge planning (Section 602 FW 1.5 B). What is lacking however, is a simple explanation of what this means. The Service should clarify within this section or in another appropriate place in the policy, that it intends to adopt a regional/ecological approach to conserving biological diversity. Simply put, the Service should ensure that its management activities benefit— and do not harm—those species, habitats, and natural processes that are rare and/or declining within the regional ecological context within which the planning unit occurs.

Response: We feel the recommended change is beyond the scope of this policy. A new policy addressing the ecological integrity of the National Wildlife Refuge System is currently being developed and will be published as 601 FW 3 of the Service Manual.

Comment: The planning policy needs to refer to the biological integrity policy when relying on that document for guidance. The planning policy also needs to incorporate these fundamental concepts to the extent possible in the absence of clear guidance from the future biological integrity policy. For example, 602 FW 1.3 should be revised as follows (underscored text are changes from the original language): “Each plan will be founded on principles of sound fish and wildlife management, available science, and the maintenance of biological integrity, diversity, and ecosystem health. Each plan will be consistent with legal mandates and our other policies, guidelines, and planning documents.” Amend 602 FW 2.1 to include similar language: “Comprehensive Conservation Plans (CCPs) describe the desired future conditions of a refuge, and provide long-range guidance and management direction for the Refuge Manager to accomplish the purposes of the refuge, contribute to the mission of the System, ensure that the biological integrity, diversity, and environmental health of the System are maintained, and meet other relevant mandates.” Biological integrity, diversity, and ecosystem health also need to be defined within the planning policy.

Response: We have incorporated the suggested text changes, with slight modification, into the final policy. In addition, we have defined the terms biological integrity, biological diversity, ecological integrity, and environmental health. These definitions are consistent with those which will appear in 601 FW 3 (ecological integrity policy).

Comment: Add the following language to Section 2.4 C (1)(g): Internal Scoping: “Identify significant opportunities to improve the health of refuge habitats or to improve the functioning of ecological systems.”

Response: We have addressed the need to identify these opportunities in Section 3.4 C (1)(e).

II. Basing Management Decisions on the Best Available Science

Comment: With regard to developing scientific and other data, such information may be gathered from a number of sources, including the various public comment periods provided by the proposed policy. Thus, when the CCP is presented for public comment, refuge planners should be seeking input and assistance from the scientific community and the public at large, and be responsive to and accountable for considering such scientific input, as would be the case during a notice and comment period under the National Environmental Policy Act (NEPA).

Response: Indeed, we must seek and be responsive to considering the scientific input provided by resource experts, and all other publics, under NEPA. The final policy reflects these points.

Comment: Section 602 FW 2.3 D of the draft policy establishes a goal to “support management decisions and their rationale by sound professional judgment,” a statement that appears reactive and defensive of status quo operations. To highlight the importance of science in decision making, this goal should be reworded.

Response: We revised the above goal as follows: “To support management decisions and their rationale by using a thorough assessment of available science derived from scientific literature, on-site refuge data, expert opinion, and sound professional judgment.” See 602 FW 3.3 D.

III. Defining Our Relationship With States and Other Agencies and Their Programs

Comment: One commenter states that in Alaska the Department of Fish and Game is woefully underfunded and the Alaska State Legislature has imposed management “standards” regarding priorities for wildlife management that are inconsistent with the major purposes of National Wildlife Refuges in that state (e.g., to conserve fish and wildlife populations and habitats in their natural diversity). The commenter states that it is unrealistic to expect that refuge management plans will be the same as State plans especially when dealing with controversial issues. Furthermore, the public, Tribes, and non-governmental organizations should have the same opportunities for participation in the development and review of CCPs as do State and local governments and adjacent landowners.

Response: Section 668dd (e)(1)(A)(iii) of the National Wildlife Refuge System Administration Act of 1966 as amended by the National Wildlife Refuge System Improvement Act of 1997, instructs the Secretary to “issue a final conservation plan for each planning unit consistent with the provisions of this Act and, to the extent practicable, consistent with fish and wildlife conservation plans of the State in which the refuge is located * * *” We believe that we have an obligation under this and other provisions of the Refuge Improvement Act to work closely with State fish and game agencies as we prepare our plans. It is important to note that the Act calls for our plans to be consistent with State plans “to the extent practicable,” and that our Regional Directors are the ultimate decision makers in the process. Congress directs our close working relationships with the States. We also believe we built sufficient opportunities into the process to allow all interested parties to participate in our planning efforts.

Comment: We received a number of comments that the refuge planning teams should also include members of State and Tribal conservation agencies.

Response: We changed the policy in Section 3.4 C (1)(a) to state that, “We will provide representatives from appropriate State and Tribal conservation agencies * * * the opportunity to serve on planning teams.” We will provide a formal written request inviting States, Tribes, and other appropriate agencies to join the refuge planning effort at the beginning of the process.

Comment: Some commenters requested that States be involved in step-down management plans.

Response: The planning policy guidance provides for and we encourage this opportunity.

Comment: Many commenters requested that the Service participate in cooperative planning efforts with States and/or other agencies.

Response: We have worked closely with many States, other Federal agencies, and others and encourage cooperative management planning for fish and wildlife and natural resources whenever feasible.

Comment: Some of the commenters questioned whether State agencies could be involved in addressing comments, plan review and implementation.

Response: We encourage State and other agency involvement throughout the planning and management processes—including implementation and review. Furthermore, by being a member of the refuge planning team, State agencies will have a direct opportunity to assure that we accurately reflect or respond to their comments in the CCP document or in our analysis. While we recognize the need for input and feedback from others, we recognize the possibility of debate or alternative management direction, if guided solely by other influences. For this reason, while we encourage full input from the States and other entities in our plans, we retain management and decision-making authority for all units of the National Wildlife Refuge System, including approval of CCPs.

Comment: Some commenters asked about other possible partnerships with the Service, beyond CCPs, such as joint ventures and ecosystem planning.

Response: We are appreciative of the interest of States and other organizations who wish to participate as a partner in our refuge and non-refuge projects. We encourage partnerships through our ecosystem approach. We invite agencies and organizations to contact our Regional Offices for more information on how to participate as a partner in our activities.

Comment: Some commenters questioned what determines adequate coordination with States, other agencies, and the public.

Response: Adequate coordination with States, Tribes, other agencies, and the general public includes an invitation to participate, actual participation in our processes, regular and good communication, use of appropriate tools and materials to aid coordination, a sense of teamwork from all parties, and resulting successful partnerships beyond the planning phase. The Service's refuge planning policy developed herein provides for all the processes and procedures for us to meet our burden of responsibility, in regard to agency coordination.

IV. Identifying Biological Information Necessary for Planning and Management

Comment: Criteria should be established for assessing the adequacy of data for making management decisions. The Service should consider delaying management choices until adequate information is available to make a decision informed by science. The U.S. Forest Service proposed planning rule states that if data are not adequate, this triggers a new or supplemental broad-scale assessment or local analysis before proceeding to decision making. It is suggested that the Service consider a similar modification of the proposed policy.

Response: In situations where we are unable to develop new data for the CCP, the plan may identify the need for further data collection. In such cases we may delay decision making, pending additional data collection and analysis. There are many sources of data that can aid in plan development. We include a list of potential data sources in 602 FW 3.4 C (1)(e). A lack of data should not delay completion of the CCP.

Comment: A number of commenters requested that the Service expand and clarify its policy and procedures for collection of data associated with CCPs.

Response: Based on the comments received, we have made extensive changes to Sections 3.4 C(1)(e) and (f), including additional discussion on data needs, data collection, data sources, use of outside experts and literature reviews, and data standards.

V. Clarifying Under What Conditions We Should Revise a CCP

Comment: Additional guidance is necessary to clarify the limits of the adaptive management strategy. The Service's intention of revising a CCP every 15 years after establishment of the initial CCP comports with the requirements set forth in the Refuge Improvement Act. Moreover, the Service indicates that it will revise a CCP sooner than 15 years after the initial CCP is approved, “if conditions that affect the refuge or planning unit change significantly.” It is unclear at what point or under what conditions the CCP should, or must, be reviewed or reassessed, prior to the expiration of the 15-year period. The commenter believes that both the Refuge Manager and the public need further guidance as to when a review should be conducted as a result of changing ecological or other conditions presented to the refuge environment, including changes in science which may render a certain use obsolete or no longer compatible with the purposes for which the refuge was established. The Service should amend the draft policy so as to establish as near of an objective standard as possible, and include guidelines and examples for the use of refuge planners.

Response: We have modified Step 8, “Review and Revise Plan,” to provide additional guidance. We have revised Subsection (a) to instruct refuge planners and managers to “Modify the plan and associated management activities whenever monitoring and evaluation determine that we need changes to achieve planning unit purpose(s), vision, and goals.” Subsection (b) now states: “Revise the CCP when significant new information becomes available, ecological conditions change, major refuge expansion occurs, or when we identify the need to do so during plan review.” While these revisions are minimal, we believe we must provide additional guidance dealing with the principles of adaptive management and monitoring. However, we do not believe this type of guidance is appropriate in our planning policy. Fulfilling the Promise: The National Wildlife Refuge System includes a number of recommendations focused on developing programs for natural resource inventory and monitoring, habitat monitoring, and adaptive management. Once we fully implement these recommendations and establish programs, we will provide appropriate guidance and initiate training courses. Only then will we be able to utilize the principles of adaptive management to refine our approaches and determine how effectively we are accomplishing refuge goals and objectives.

Comment: Some commenters asked the Service to clarify what level of planning and plan revision is required for refuges.

Response: Chapter 1 of the policy provides a general description of planning requirements. Chapter 3 (formerly Chapter 2) deals specifically with CCPs. Section 3.4 C(8) provides details on plan revision. In general, all newly established refuges will have a Conceptual Management Plan in place at the time of refuge establishment. We will develop CCPs as soon as possible but not later than 15 years after establishment of a refuge. We will review CCPs annually and make revisions as needed. We will revise CCPs at least every 15 years.

Comment: Some commenters were concerned that a change of management direction could occur with a change of Refuge Manager.

Response: The planning policy states that the Refuge Manager shall manage the refuge under an approved CCP, and that plan revision should occur only when monitoring and evaluation documents the need for change in order to achieve planning unit purpose(s), goals, and objectives. The Regional Director approves the CCP with input and concurrence from many levels within the Service, as well as outside review and comment.

VI. Expediting or Further Clarifying Our Planning Process

Comment: Implementing a “Public Participation Plan” early in the planning process before developing alternatives or drafting the plan will help the Service identify issues and define the desired future condition(s) of a particular refuge. Extra effort will be needed at this step of the process in order to establish a firm foundation for subsequent planning phases. Additional guidance would be helpful to ensure refuge planners make this effort.

Response: We require the preparation of a “Public Participation Plan” (referred to as a “Public Involvement/Outreach Plan”) in Step 1, “Preplanning: Planning the Plan,” of our Comprehensive Conservation Planning process. We also provide guidance on preparing a “Public Involvement/Outreach Plan” during the Refuge Comprehensive Conservation Planning course offered at our National Conservation Training Center. This course is available to Service personnel and other planning team members who are about to begin the preparation of a refuge CCP.

Comment: Integrating the CCP with various Environmental Assessments (EA)/Environmental Impact Statements (EIS) from the outset may not achieve the planning expediency that it is intended to achieve. To save time and money, it is suggested that the first step in the CCP process should be the development of a stand-alone “vision document” that generally describes the goals of the refuge and its desired future condition. After the goals of the refuge and its desired future condition are documented and agreed upon, then various EAs/EISs can be developed as a mechanism to examine the alternatives on how to achieve them.

Response: There is no need for a stand-alone vision document. The refuge vision statement and goals are integral parts of our CCP process. Identified in Step 1, “Preplanning: Planning the Plan,” we subsequently share them with the public in Step 2, “Initiate Public Involvement and Scoping,” and, based on the public's comments, modify them as appropriate in Step 3, “Review Vision Statement and Goals and Determine Significant Issues.” We ultimately use them to help identify our Proposed Action in the draft NEPA document in Step 4, “Develop and Analyze Alternatives, Including the Proposed Action.” The proposed action will be the one that best achieves the refuge purpose(s), vision, and goals; helps fulfill the Refuge System mission; maintains and, where appropriate, restores ecological integrity; addresses the significant issues and relevant mandates; and is consistent with principles of sound fish and wildlife management.

Comment: Incorporating “compatibility determinations” within the CCP process is a laudable goal. However, in light of the previously completed determinations, it may be advisable to allow this process to have its own time line independent from, but monitored by, the CCP process. These determinations may be examples where interim modifications (of the size or scope that would not require reopening the planning process) are needed between scheduled planning cycles. Additional guidance may be necessary to help determine when, where and how these interim modifications are made.

Response: We believe that incorporating compatibility determinations in our refuge CCPs is both efficient and makes good sense. The degree of public review and opportunities to comment provided in the CCP process will be more than adequate to fully comply with the provisions of the National Wildlife Refuge System Improvement Act of 1997. We believe that we will be able to accommodate most, if not all, interim modifications required for these determinations through the revision procedures of the process. While we will likely accommodate many of these modifications without reopening the entire planning process, we will undoubtedly reopen some. The process will be able to accommodate both situations.

Comment: A commenter expressed the concern that the lack of specific data should not impede the planning process, but rather incorporate and identify this shortcoming as a specific need of a particular refuge in the planning process. While the draft policy specifically mentions that the CCP can identify data needs as part of the plan, it does not provide direction to the effect that the planning process should continue and not be stalled as a result of incomplete data.

Response: We revised the text of the policy in Step 1, “Preplanning: Planning the Plan, (e) Planning Area and Data Needs,” to indicate that “While we may not be able to develop new data for the CCP, we may identify the need for further data collection. A lack of data should not delay the completion of the CCP.”

Comment: A concern has been raised regarding the “Internal Reviews” of the CCP, or subparts thereof, that are called for in the draft policy. In each reference to internal reviews, the draft policy directs that these should be conducted by “* * * following established regional procedures,” yet fails to identify what these procedures may be. The commenter believes that additional guidance is needed to provide a greater degree of consistency to the manner in which internal reviews are conducted.

Response: The “established regional procedures” to which we refer deal primarily with the internal distribution of documents. We have revised the text of the policy in both Step 5, “Prepare Draft Plan and NEPA Document, (d) Internal Review,” and Step 6, “Prepare and Adopt Final Plan, (c) Internal Review,” to provide further guidance on the internal distribution of documents to include: “* * * refuge program managers, ecosystem managers, refuge staff and other appropriate Service programs and divisions, as well as other agency partners.”

Comment: From a public participation point of view, a commenter recommends that a generalized description of the types of circumstances in which “categorical exemptions” may be invoked would be helpful to include in the final policy. Another commenter noted that Section 2.4 C (8)(b) states that CCPs will be periodically reviewed and revised “* * * generally through the use of a categorical exclusion.” It was requested that the Service define exactly what category of actions, either individually or cumulatively, it determines will not have a significant effect on the human environment (40 CFR 1508.4).

Response: When revising a CCP, we expect our decision makers to ensure that, when we can categorically exclude an action, the action does, in fact, comply with the requirements and limitations described in the categorical exclusion. Because most categorical exclusions apply to a variety of our actions and different program activities, it is not possible, nor desirable, to address in this policy all possible actions or situations covered by a given categorical exclusion. Our NEPA policy already provides such guidance (see 550 FW 3.3).

Comment: The opening section of Part 602, (National Wildlife Refuge System Planning), Chapter 2, (Comprehensive Conservation Planning Process), says: “it is not the intent of this policy to provide step-by-step direction on how to prepare a CCP but rather to establish the requirements and standards to which we will hold all CCPs.” However, “requirements and standards” are either non-existent or very weak. Instead, the subsequent sections primarily describe the steps of the planning process. This is particularly apparent when it comes to wildlife-dependent recreational uses.

Response: We have revised the text of the policy in Section 3.1 (formerly Section 2.1), “What is the purpose of this chapter?,” to read, “This policy provides guidance, step-by-step direction, and establishes minimum requirements for all CCPs.” We will address the “requirements and standards” to which we originally referred in Part 601 of the Service Manual, “Mission, Goals, and Purposes of the National Wildlife Refuge System,” as well as through recommendations in Fulfilling the Promise: The National Wildlife Refuge System.

Comment: After describing the steps to be taken to ensure public involvement in the scoping process in Section 2.4 B(2), the policy requires a review of the vision statement and goals to determine significant issues (Section 2.4 B(3)). Item B(3) says, “based on this review, modify the vision and goals for the planning unit as appropriate.” The planner needs to keep in mind that Congress has set certain policies and requirements for the administration of the Refuge System. The following sentences should be added to B(3)(a):

“We need to keep in mind that the law sets forth some very specific policies and requirements for the administration of the Refuge System. These include the basic mission of the System and the direction that compatible wildlife-dependent recreation is a legitimate and appropriate general public use of the System, directly related to the mission of the System and the purposes of many refuges. Regardless of what may or may not develop during the public involvement and scoping process, the law requires that wildlife-dependent recreational uses be facilitated and expanded.”

Response: Step 2, “Initiate Public Involvement and Scoping,” instructs the planner to involve the public and gather comments on the existing vision statement, goals and objectives, potential issues, management actions and concerns, significant problems or impacts and opportunities or alternatives to resolve them. This is the very essence of the scoping process mandated by NEPA. Step 3, “Review Vision Statement and Goals and Determine Significant Issues,” further instructs the planner to review and evaluate the public's comments on the vision statement and goals and modify them as appropriate. It may not be appropriate to modify them based on the comments received. Professional planners understand that decisions are not based on majority opinion, and we charge them with making certain the public understands this most basic tenant of NEPA.

Comment: The Service properly states that one of the goals for the CCP is to “ensure that we manage each refuge to fulfill the mission of the System as well as the specific purposes for which we established that refuge.” The purposes for which the refuge was established should be the very foundation of every CCP. Thus, each CCP should begin with a recitation of the goals for which that particular refuge was established, as enunciated in the text of the refuge's authorizing documentation, and a narrative of how those goals relate to and fulfill the NWRS mission. Such an approach would not only ensure adherence to the refuge's purposes and Refuge System mission, but would be consistent with the intent of Congress in enacting the Refuge Improvement Act.

Response: Step 1, “Preplanning: Planning the Plan,” now includes a new Subsection (b) Identify Refuge Purpose(s), History, and Establishing Authority. We instruct those preparing CCPs to “Document the history of refuge establishment and management, as well as refuge purposes and authorizing authority * * *” which “* * * will become driving forces in the process * * *” This is the first task the newly formed planning team undertakes, and we include this important material in Chapter I, “Introduction/Background” of the CCP (also see Exhibit 3-4).

Comment: The Service's proposed policy would require additional expenditures of time on the part of FWS personnel, particularly Refuge System field personnel. There is concern that the demands imposed on Refuge Managers and their staffs by these proposed planning and related NEPA compliance requirements will adversely affect refuge staff's ability to maintain their commitment to current refuge operations, if additional funds and personnel are not made available. Thus, it is imperative that the level of commitment on the part of the Service toward proper planning and administration of the Refuge System be matched by a commitment from the Department of the Interior and Administration to seek an appropriate level of funding on a yearly basis, to provide additional staff and other resources, where needed.

Response: We recognize this potential problem. Congress increased our budget in 1996 to include funding dedicated to the preparation of CCPs. Our regional and field offices are using these funds to provide professional planning staff and services to assist refuge field personnel in the preparation of their plans. The CCPs themselves also will document the increased staffing and funding levels required for their full implementation.

Comment: Public participation is critical to the administration of a refuge and the Refuge System. Proposed Section 2.4 C (2)(a) appears to only provide the public with the ability to comment on the Notice of Intent to prepare a CCP only if the Service intends to prepare an EIS for the CCP. The public should have the ability to provide public comments as part of the scoping process when the Service intends to prepare a CCP, whether or not an EIS is drafted. This section should be amended to make clear that a comment period will follow the publication of a Notice of Intent to prepare a CCP, whether or not the Service intends to prepare an EIS, and if later in the process the Service decides to prepare an EIS, a public comment period would follow that announcement as well.

Response: We did not intend to limit public participation during the scoping process. We have revised the text to remove any possible misconceptions concerning our desire to openly solicit public comment throughout the scoping process, whether or not we prepare an EIS. We have modified Section 3.4 C (2)(b) (formerly Section 2.4 C (2)(b)) to read: “Public scoping will continue until we prepare a draft CCP/NEPA document.”

Comment: Amend the proposed public review period for a draft CCP/NEPA document to provide a 60-day comment period for an EA, as well as the currently proposed 60-day comment period when an EIS is to be drafted.

Response: We modified the final policy (see 602 FW 3.4 C (5)(e)) to read, “Provide a minimum of 30 days for public review of a draft CCP with an EA and 45 days for a draft CCP with an integrated EIS.” The comment periods noted reflect the minimum comment periods authorized under current NEPA policies. We recognize that under many circumstances the comment period associated with a particular CCP will often be much longer depending on the nature and complexity of the plan.

Comment: Scientific data, collected from governmental and non-governmental organizations, academia and other sources are vital to refuge planning. Although the Service's draft policy acknowledges this importance, we feel that identifying the need for additional data is of equal importance to acknowledging the existence of data already in hand. The current reading of Section 2.4 C (1)(d) states that the planner “can identify the need for additional data.” Such language does not adequately emphasize the importance of developing additional data. Hence, we recommend that the last sentence of 2.4 C (1)(d) be modified as follows: “You do not need to develop new data at the time of drafting the CCP. If current data exists, the CCP should state so and summarize the existing data; if no current data exists, the CCP should state so, and identify to the extent possible the type of data that will need to be developed.”

Response: We have substantially revised the text of Section 3.4 C (1)(e) (formerly Section 2.4 C (1)(d)) based on a number of comments we received.

Comment: 1.6 K. Planning Team Leader. Revise last sentence to read: “The Planning Team Leader manages the refuge planning process, and ensures compliance with applicable regulatory and policy requirements.”

Response: We made the recommended change in the final policy. See 602 FW 1.6 Q.

Comment: 1.8 E. Planning Team Leader. Revise second sentence to read: “The Planning Team Leader, in consultation with the Refuge Manager, is responsible for identifying appropriate and proper representation on the interdisciplinary planning team.* * *”

Response: We made the recommended change in the final policy. See 602 FW 1.8 E.

Comment: 1.8 F. Refuge Supervisor. Insert at the end: “Once the plan is approved by the Planning Team Leader and the Refuge Manager, the Refuge Supervisor will also be responsible for review and approval of the plan prior to its submission to the next approval level.”

Response: We made the recommended change, with slight modification, in the final policy. See 602 FW 1.8 F.

Comment: 1.8 G. Refuge Manager. Revise second sentence to read: “The Refuge Manager assures that the refuge staff participates in plan development, and is responsible for its content in terms of information relating to management of refuge resources and use activities.”

Response: The latter is the responsibility of the entire planning team, and not just the Refuge Manager. We have added this responsibility to 1.8 H., “Planning Team.”

Comment: Section 1.2, “What does Part 602 apply to?” should be amended to include at the end of the sentence, “except coordination areas,” to be consistent with Section 1.6 C, which states “[w]e do not require CCPs for Coordination Areas.”

Response: To clarify, Part 602 includes four parts. Part 602 FW 1 is a general overview of refuge planning and addresses more than just CCPs. It applies to all units of the National Wildlife Refuge System.

Comment: Although recreational and commercial trapping are clearly “wildlife-dependent recreational uses” of the Refuge System, it is unclear whether the planning policy requires compatibility determinations for these activities. Although the Refuge Improvement Act does not identify trapping as a “priority use” of the Refuge System, trapping is still a “wildlife-dependent recreational use” and should therefore mandate production of a compatibility determination, with full public review and comment. This point should be clarified in the planning policy.

Response: If a refuge plan included trapping as a use in our proposed action, it would require a compatibility determination under the provisions of this policy. We believe we adequately addressed this concern in Step 5, “Prepare Draft Plan and NEPA Document, Subpart (b) Compatibility Determinations.” This subpart requires refuge planners to “Complete new compatibility determinations or re-evaluate existing compatibility determinations as part of the CCP process for all individual uses, specific use programs, or groups of uses associated with the proposed action, when adequate information is available and where possible.” It further requires that we incorporate the draft compatibility determinations into the draft CCP as an appendix and obtain the required public review and comment as part of the draft CCP and NEPA document.

Comment: The draft policy only lists trapping as a component of “Population Management” in its list of step-down management plans in Section 3.5 of Part 602 FW 3. Step-down management plans are required for all hunting and fishing programs, but not for recreational and commercial trapping. The commenter interprets this to mean that commercial and recreational trapping will not be allowed on the National Wildlife Refuge System. If this interpretation is incorrect and commercial and recreational trapping will be allowed on the Refuge System, then the draft planning policy should include a step-down management plan for this wildlife-dependent recreational activity.

Response: The commenter's interpretation is incorrect. Commercial and recreational trapping may be allowed on a refuge, but only if done as part of “Population Management.” As the commenter notes, we include “Population Management” in the list of step-down management plans. If trapping is to be a part of the management of wildlife populations, such as management of furbearer populations, protection of facilities, or controlling problem predators, we would require the refuge to address trapping and associated means of the population management program in such a plan. The reason that trapping does not appear on the list of priority wildlife-dependent recreational uses is that only the six activities listed therein are specifically identified in the Refuge Administration Act. Other refuge uses, whether listed on the list of step-down management plans specifically, or under a general category, will require planning and compliance, including a compatibility determination. As such, the current reference to trapping in 602 FW 4, Section 4.5, under “Population Management” was intentional and is correct.

Comment: The Service needs to disentangle NEPA from the CCP process. To that end, the commenter recommends that we revise Section 2.4 to require that an EA or an EIS be a document entirely independent of the CCP process. Alternately, the commenter requests that we justify the legal distinction behind the determination to integrate a NEPA document within a CCP and a determination to forego integration.

Response: The language in Section 3.4 B (formerly Section 2.4 B) is correct. The Council on Environmental Quality's (CEQ) regulations require that “to the fullest extent possible, agencies shall prepare draft environmental impact statements concurrently with and integrated with environmental impact analyses and related surveys and studies required by the Fish and Wildlife Coordination Act (16 U.S.C. 661 et seq.), the National Historic Preservation Act of 1966 (16 U.S.C. 470 et seq.), the Endangered Species Act of 1973 (16 U.S.C. 1531 et seq.), and other environmental review laws and executive orders” (40 CFR 1502.25). The regulations also tie a similar requirement to the preparation of environmental assessments (40 CFR 1501.7(b)(3)). The confusion lies in the fact that the development of alternatives, analysis of impacts, and public participation occurs throughout this integrated process, up until the agency makes the final decision in the Record of Decision (ROD) (for an EIS) or a Finding of No Significant Impact (FONSI) or decision to prepare an EIS (for an EA). However, after the agency has made a decision on the content of the CCP, the CCP serves as the management plan for the Service. The NEPA document is useful then as a reference and to ensure that the Service maintains its commitment to the actions it intended to take, as analyzed in its NEPA document. The final policy recognizes the independent nature of the CCP following the completion of the integrated process.

Comment: The draft policy authorizes the continuance of wildlife-dependent recreational uses on an interim basis for lands newly acquired into the Refuge System, pending completion of a CCP. Section 2.4 (5)(d) states: “* * * the draft CCP and NEPA documents also must identify any existing wildlife-dependent recreational uses occurring on those lands. Also identify those uses deemed compatible that we may allow to continue on an interim basis once we acquire the lands, pending completion of a CCP.” However, it is unclear what authority makes an interim compatibility determination for such wildlife-dependent uses.

Response: Section 668dd(d)(3)(A)(ii) of the National Wildlife Refuge System Administration Act of 1966 as amended by the National Wildlife Refuge System Improvement Act of 1997, states that: “On lands added to the System after March 25, 1996, the Secretary shall identify, prior to acquisition, withdrawal, transfer, reclassification, or donation of any lands, existing compatible wildlife-dependent recreational uses that the Secretary determines shall be permitted to continue on an interim basis pending completion of the comprehensive conservation plan for the refuge.” We will use our compatibility policy to make such determinations.

Comment: Section 2.4 B (6)(i), Part 602 FW 2 states that “[I]n some cases, we may require a 30-day public review period for the FONSI.” However, the proposed policy does not define what will trigger public review. This section should be revised to outline the criteria FWS will use to make this determination.

Response: The CEQ established criteria for requiring such a review in the “Regulations for Implementing the Procedural Provisions of the National Environmental Policy Act” (40 CFR 1500-1508), and Executive Orders 11988 (Floodplain Management) and 11990 (Protection of Wetlands). The regulations require public review “* * * (a) if the proposal is a borderline case, i.e., when there is a reasonable argument for preparation of an EIS; (b) if it is an unusual case, a new kind of action, or a precedent-setting case such as a first intrusion of even a minor development into a pristine area; (c) when there is either scientific or public controversy over the proposal; or (d) when it involves a proposal which is or is closely similar to one which normally requires preparation of an EIS.” The executive orders require public review if a proposed project would be built in and negatively impact a floodplain or wetland.

Comment: Exhibit 2 lists 41 statutes and executive orders that must be considered during Comprehensive Conservation Planning. All of the listed statutes and executive orders provide for environmental or cultural protections while the authorities applying to FWS land management responsibilities are missing. The list would be complete if the following statutes and executive orders were added:

1. Executive Order 12866 requiring economic impact analyses of any Federal action.

2. Regulatory Flexibility Act requiring the evaluation of the effects of any proposed action on small entities.

3. Mining and Minerals Policy Act of 1970 that applies to the Secretary of the Interior in carrying out any program as may be authorized by any law.

4. National Materials and Minerals Policy Research and Development Act of 1980, which mandates similar requirements as under the Mining and Minerals Policy Act.

Response: We do not intend the list of statutes and executive orders in Exhibit 3-2 to be all inclusive. It is simply a list of some of the more common ones that apply to many refuges. Other statutes and executive orders, such as those cited, also must be taken into consideration by the refuges to which they specifically apply.

Comment: The policy should have better requirements for public involvement so there is a consistent way for the public to be involved throughout the Refuge System. One commenter recommends the requirement for Federal Register notices for all CCPs at the scoping and public review stages, in addition to notices in local newspapers or radio. In many areas, refuge offices are not located within the actual refuge areas, so greater effort needs to be made to involve the public. Public notification and opportunity for comment should be required for all CCPs at the scoping phase when plan development or revision is initiated, in addition to a 30-60 day or more public comment period for draft plans. Copies of draft and final plans should be made available to any member of the public upon request and on a website. Statements that FWS shall “develop and implement a process to ensure active public participation” (see “Planning and the NWRSIA-97) give a minimum standard that is woefully inadequate and sets the stage for poor performance. Although later sections of the policy better explain notice and comment procedures, there are loopholes indicating that not all CCPs will require full public input and review.

Response: The policy, as currently written, requires full public input and review for all CCPs. Step 1, “Preplanning: Planning the Plan,” requires the preparation of a Public Involvement/Outreach Plan for each CCP, and notes that “We integrate public involvement and outreach into each step and it continues throughout the planning process.” Step 2, “Initiate Public Involvement and Scoping,” requires that we publish a Notice of Intent in the Federal Register for each CCP, and “Using news releases to the local media and other appropriate means, (to) notify the affected public of the opportunity to participate in the preparation of the CCP * * *” Step 2 also notes that “Public scoping will continue until we prepare a draft CCP/NEPA document.” Step 5, “Prepare Draft Plan and NEPA Document,” requires that we publish a Notice of Availability in the Federal Register for each CCP, and “Notify the affected public of the availability of these documents through other appropriate means, as identified in the Public Involvement/Outreach Plan.” Step 5 also requires that we “Conduct appropriate public involvement activities as called for in the Public Involvement/Outreach Plan.” Step 6, “Prepare and Adopt Final Plan,” requires that we “Prepare a summary of the public comments received and a statement of the disposition of concerns expressed in those comments * * *” Step 6 also requires that we publish a Notice of Availability of the final approved CCP and NEPA document(s) in the Federal Register. Step 8, “Review and Revise Plan,” calls for us to “Continue informing and involving the public through appropriate means.”

Comment: One commenter commended the Service's statements in the draft planning policy that new wilderness reviews be conducted as one of the “required elements” of the CCP planning process but expressed disappointment that the draft policy does not provide guidance on how to conduct a wilderness review. (In fact, it alludes to a policy that has yet to be written.) Worse still, the policy includes a loophole that would allow refuges to defer wilderness reviews indefinitely. (A footnote to the policy reads: “Some of these required elements may not be available. In these cases, you need to develop objectives or strategies in the plan to acquire that information.”)

Response: We do not believe that our policy on National Wildlife Refuge System planning is the proper place to provide detailed guidance on conducting wilderness reviews. We will provide this guidance in the forthcoming Director's Order on “Wilderness Review and Evaluation.” This Director's Order will provide guidance on conducting wilderness reviews pending completion of Part 610 of the Fish and Wildlife Service Manual, “Wilderness Management.” Concerning the “loophole,” we have removed the footnote from Exhibit 3-3.

Comment: Amend the policy to ensure that the vision statement for the refuge is clearly tied to the mission of the Refuge System, the purposes of the refuge, and the maintenance and restoration of biological integrity, diversity, and environmental health. The draft policy does not appear to provide guidance on the preparation of appropriate refuge visions.

Response: We have revised the definition of “Vision Statement” accordingly. See 602 FW 1.6 Z. We also have added additional guidance on the preparation of refuge vision statements to 602 FW 3.4 C (1)(g).

Comment: Some commenters requested that the Service add information on the history of settlement, land use, and land tenure of the refuge planning area.

Response: We have modified the policy by adding this item to Section 3.4 C (1)(e) and the Refuge Planning Checklist (Exhibit 3-3).

Comment: Some comments were made about the National Wildlife Refuge System compatibility policy and process and the need to further explain its relationship to refuge planning.

Response: When preparing Comprehensive Conservation Plans (CCPs) and Conceptual Management Plans, refuge planning teams will use the compatibility process outlined in the agency's compatibility policy as defined in regulations. (See 603 FW 2 of the Service Manual.) We do not find it necessary to duplicate this information herein.

Comment: Some commenters requested that CCPs should provide supporting documentation and rationale for refuge objectives.

Response: We have modified Section 3.4 C (4)(d) (Objective Development) to require that CCPs include a short narrative summary, including appropriate literature citations, which provides the rationale for each objective.

Comment: Some commenters requested additional information on adaptive management and monitoring.

Response: The refuge planning policy only touches on the need for adaptive management and monitoring to assure that we are meeting refuge purposes, goals, and objectives and that management strategies are appropriate. We will develop additional Service policy and guidance on both the adaptive management process and monitoring.

Comment: Some commenters requested that the policy include examples of planning products, such as statements for refuge goals, objectives, and strategies.

Response: We find that having a number of examples in the actual policy is not appropriate. What we have done and will continue to improve upon, is to provide a handbook on developing quality goals, objectives, and strategies. Also, the National Conservation Training Center course on Refuge Comprehensive Conservation Planning provides both a training session as well as an expanded guide of resource material, including many examples of planning products. It is our intent to keep this information current and up-to-date with the best available information and examples.

Comment: Comments were raised which asked us to identify the standards for measuring Service success in achieving Refuge System and refuge planning goals.

Response: In general, our measure of success is as follows: (1) complete plans; (2) implementation is preceding; and (3) monitoring and evaluation are under way to help assess and determine successful management actions. Additionally, we are in the process of developing a new policy chapter for the National Wildlife Refuge System, which will include identification of Refuge System goals. We have identified refuge planning goals in Chapter 1 of our planning policy. We also have initiated a process for national review of refuge CCPs to help us evaluate our planning process and products, including the capability to measure our successes and establishing standards to assure we are achieving our goals. We also are developing further guidance on adaptive management and monitoring, which will play key roles in determining the success of the refuge planning process. We sense that it may take a number of years until we can make an adequate assessment of the planning process and the resulting products before we can fully identify such measures and standards. As we further develop and refine this information, including it in future updates of the refuge planning policy will be appropriate. We invite feedback from the public and other agencies on our successes and needs for refinement throughout our planning efforts.

Comment: Some commenters asked how we would determine whether a CCP should be prepared for a single refuge or a complex of refuges.

Response: We will determine the scope of a CCP on an individual, case-by-case basis. Developing a CCP or CCPs for an administrative complex of refuges is ecologically efficient and generally our desired approach. However, in many cases, doing single refuge plans, or plans for less than an entire refuge complex, may be more effective and efficient.

Comment: Some questions were raised about the lead responsibilities, coordination and organizational relationship for developing CCPs within the Service.

Response: The Refuges and Wildlife Program has the lead in preparing plans (see “Who is responsible for implementing our policy?,” 602 FW 1.8).

Comment: A recommendation was made to provide a review copy of the draft CCP to all resource experts who contribute to a CCP's development.

Response: We changed the policy in Section 3.4 C(5)(e) to reflect this recommendation.

Comment: Commenters requested that the Service clarify the definition of “objective,” and expand upon the description of the objective development process, including explaining how objectives should be worded.

Response: We have included a revised definition of objectives in Section 1.6 N and a revised and expanded description of the objective development process in Section 3.4 C(4)(d).

Comment: Section 602 FW 1.3 and various other sections in the draft policy indicate that the plans will “contribute to” the System mission. In each such instance, the phrase “contribute to” should be replaced with the word “fulfills.”

Response: We slightly modified the recommended change in the final policy to read, “help fulfill the Refuge System mission.”

Comment: The policy should call for bold vision statements of what the planning unit should be, or what we hope to do. The draft language in Section 602 FW 1.6 S uses words that are passive and indirect (what the planning unit “could be”).

Response: We made the recommended change in the final policy. See 602 FW 1.6 Z.

Comment: Section 2.4 C(1)(d) should be modified to place the emphasis squarely on conservation of wildlife, habitat, and biological integrity, where it belongs. The Service should establish a two-stage process that first identifies and describes the management steps that are necessary to accomplish the first priority (“wildlife first”) and only then determine what opportunities for wildlife-dependent recreation will be provided (“wildlife-dependent recreation second”).

Response: The Refuge Improvement Act clearly states that wildlife comes first on refuges. We only would allow those wildlife-dependent uses deemed compatible and appropriate to occur. Section 602 FW 3.4 C(1)(e) (formerly Section 602 FW 2.4 C(1)(d)) identifies the steps in preplanning. At this stage we are gathering information only. Hence, we see no need to establish a two-stage process as suggested.

Comment: A two-stage process is also recommended for determining goals and objectives: wildlife comes first, wildlife-dependent recreation comes second. There is a fear that the draft policy would mix wildlife conservation and recreation together.

Response: Again, we see no need to establish a two-stage process as suggested. The Refuge Improvement Act makes it quite clear that wildlife comes first on National Wildlife Refuges.

Comment: Section 602 FW 2.4 C(1)(d) states that “You do not need to develop new data for the CCP.” This statement belies the commitments in Fulfilling the Promise to address the Refuge System's biological shortcomings. This sentence should be replaced with an admonition that a certain level of information is necessary before the planning process can be initiated in earnest.

Response: We made the recommended change in the final policy. We modified 602 FW 3.4 C(1)(e) (formerly 602 FW 2.4 C(1)(d)) to read: “While we may not be able to develop new data for the CCP, we may identify the need for further data collection. A lack of data should not delay the completion of the CCP.”

Comment: Section 602 FW 2.4 C(1)(d)(i) should be reworded to ensure that CCPs identify and describe the “current and historic distribution, migration patterns, and abundance of fish, wildlife, and plants * * *” In addition, this section should be amended to identify and describe “those fish, wildlife, and plants that are rare and/or declining within the regional ecological context within which the planning unit occurs.”

Response: Although we added the suggested language regarding rare and/or declining species to the final policy (see 602 FW 3.4 C(1)(e)(vii)), language pertaining to the “distribution, migration patterns, and abundance of fish, wildlife, and plants” remains unchanged to be consistent with language that appears in the Refuge Improvement Act. To help address the commenter's concern, we modified 602 FW 3.4 C(1)(e)(v) in the final policy to read, “Current and historic description of the flora and fauna, and the diversity of habitats and natural communities.”

Comment: Section 602 FW 2.4 C(1)(d)(iii) should be reworded to ensure that CCPs identify and describe the “current and historic diversity of habitats and natural communities and those habitats and communities that are rare and/or declining within the regional ecological context within which the planning unit occurs.” In addition, Section 602 FW 2.4 C(1)(d)(vii) should be reworded to ensure that the plans identify and describe the “current and historic role of fire and other natural processes.”

Response: We incorporated the suggested changes, with slight modification, into the final policy. See 602 FW 3.4 C(1)(d)(v), (viii), and (xiii).

Comment: Section 602 FW 2.4 C(2)(c) should be modified so as to ensure that planners “identify any new information, issues, concerns * * *”

Response: We made the recommended change in the final policy. See 602 FW3.4 C(2)(c).

Comment: Section 602 FW 2.4 C(4)(d) should be modified to adopt a System-wide general policy for implementing the Refuge Improvement Act's monitoring requirement.

Response: A System-wide policy that addresses monitoring within the Refuge System already exists in 701 FW 2 of the Service Manual. We are currently revising this policy guidance and will address the monitoring mandates of the Refuge Improvement Act, as necessary.

Comment: Concurrent with the publication of the final planning policy, the Service must publish interim guidance on how wilderness reviews are to be conducted. The guidance should state that the reviews should include: (1) An inventory of all qualifying areas, (2) an analysis of the suitability for their designation as wilderness, and (3) a recommendation for wilderness designation.

Response: We expect that both the interim and final policy on wilderness will include inventory, study, and recommendation as steps needed to complete wilderness reviews. The inventory of the refuge should be broad-based to determine what areas would qualify as wilderness. The study would analyze in detail the resources, values, uses, and other characteristics of the qualifying areas (Wilderness Study Areas). The recommendation follows the study and would depend on its conclusions.

Comment: Section 1.7 A should be modified by adding “or critical habitat designations or proposals” after the words “endangered species recovery plans.” In addition, Section 2.4 C(1)(d)(xiii) should be amended to read “Existing special management areas or designations (e.g., wilderness, critical habitat designation or proposal, research natural area * * *).”

Response: We believe the recommended change is unnecessary since the list is not meant to be all inclusive.

Comment: A new Section 2.4 C(1)(d)(xiv) should be added that indicates “Opportunities to reintroduce endangered, threatened, candidate, or other rare species to the planning unit.”

Response: We do not believe this information is appropriate to include in a section dealing with preplanning data needs (602 FW 3.4 C(1)(e)). Such actions would be more appropriate to include in the range of alternatives in the NEPA document.

Comment: Section 602 FW 2.4 C(5)(a) should be modified as follows: “Ensure that no activities are authorized on a national wildlife refuge that may interfere with the recovery of a threatened or endangered species, and ensure compliance regarding other programs and policies, including the Clean Water Act * * *”

Response: We believe the current language in 602 FW 3.4 C (5)(a) that states “Ensure compliance regarding other programs and policies, including Section 7 of the Endangered Species Act; Sections 401 and 404 of the Clean Water Act * * *” already addresses the above concerns.

Comment: Section 1.5 F should be amended to reflect the Refuge Improvement Act by adding at the end “and to ensure that these uses receive enhanced consideration over general public uses in the Refuge System.”

Response: We made the recommended change in the final policy. See 602 FW 1.5 G.

Comment: Section 2.4 C (1)(d) should be amended by adding at the end a new paragraph “(xv) Conflicts that may occur or be expected to occur between non-priority uses and priority uses of the planning unit.”

Response: We believe this information is more appropriate in the section dealing with environmental consequences (602 FW 3.4 C (4)(f)) rather than the section dealing with preplanning data needs (formerly 602 FW 2.4 C (1)(d)). We made the suggested change in the final policy. See 602 FW 3.4 C (4)(f).

Comment: Planning requirements should be issued as regulations not as policy. Comprehensive Conservation Planning is an integral part of the Refuge Improvement Act, and issuing planning regulations to implement the Act is entirely consistent with Congressional and Administrative intent to promulgate nationally consistent plans for the Refuge System. This is an opportunity to institutionalize better science and clear national direction and maintain this guidance through changes in agency personnel, changes in agency structure, and changes in administrations. This would increase consistency, accountability, and enforceability within the Refuge System. Further, if promulgated as regulations, the Service would have additional justification to increase funding for refuge planning because the provisions of the regulations would be mandatory, as opposed to discretionary.

Response: We assume that the commenter intended to suggest that our planning requirements be published in the Code of Federal Regulations (CFR) rather than in the Service Manual. We believe that one of the main objectives of this effort is to institutionalize better science and clear direction that will be maintained regardless of changes in personnel, etc. We believe that, for a number of reasons, the Service Manual, rather than the CFR, is the proper vehicle.

The issuance of planning requirements as part of the Service Manual will accomplish the requirements of the National Wildlife Refuge System Administration Act, as amended by the National Wildlife Refuge System Improvement Act. Publishing planning rules in the Service Manual rather than the CFR does not diminish the requirements that they contain. Refuge Managers will be bound by those requirements that are mandatory whether or not we publish them in the CFR. In addition, because the planning chapters contain rules, we will have to use the same notice and comment procedure utilized to adopt these chapters if we decide to amend or change them.

We have chosen to use the Service Manual because: (1) The requirements are primarily working rules of procedure for Refuge Managers to follow with regard to areas that they manage; (2) the planning chapters contain a mix of rules that we must follow and general guidance that we normally will adhere to but that we may deviate from as the particular situation warrants; (3) the planning chapters do not directly regulate the public; (4) the planning chapters and the Service Manual are available to the public through either the Department of the Interior or the Fish and Wildlife Service home pages on the World Wide Web or by request made to any refuge or Service field, regional, or headquarters office and, therefore, are as available to the public as they would be if published in the CFR; and (5) publishing in the Service Manual rather than the CFR does not affect the strength of any rules that are in the chapters nor does it exempt us from procedural requirements.

Comment: The introductory sections of the draft planning policy identify an important and useful set of refuge planning goals (Sections 1.5 and 2.3). Especially important are the goals of ensuring that the System “contributes to the conservation of biological diversity and integrity and to the structure and function of the ecosystems of the United States” (Section 1.5 B) and encouraging that refuge planning be done in concert with an ecosystem approach (Section 2.3 C). However, those goals are not clearly identified as “national policy” and they are not integrated into the development of a vision and goals. While there is strong support for basing future refuge management on ecosystem goals, this emphasis needs to be much more clearly articulated.

Response: We recognize the need to establish national policy regarding Refuge System goals. This policy is currently under development and will eventually appear as 601 FW 1 of the Service Manual. We expect this policy to be available for public review and comment in spring 2000.

Comment: The definition of “all available information” should be adopted from the Proposed Compatibility Regulations (64 FR 49056) which includes as sources of information “planning documents, environmental assessments, environmental impact statements, annual narratives, information from previously conducted or on-going research, data from refuge inventories or studies, published literature on related biological studies, State conservation management plans, field management experience, etc.”

Response: We made the recommended change in the final policy. See 602 FW 3.4 C (1)(e).

Comment: The FWS must ensure that plans at the national, regional, and ecosystem levels are in place before refuge planning begins. The current schedule for CCP completion does not consider whether larger-scale priorities are in place, and does not provide enough time to develop sound individual CCPs. If this recommendation is not adopted, Refuge Managers must at the very least be required to state minimum inventory needs in their plans, if for no other reason than to ensure that they have the minimum baseline data they need in order to write their next plan.

Response: We will coordinate CCP schedules so that they follow completion of national, regional, and ecosystem plans whenever possible. However, we recognize that in some instances we will develop CCPs before ecosystem and other plans are in place or updated. Our policy is to make management decisions using a thorough assessment of available science derived from scientific literature, on-site refuge data, expert opinion, and sound professional judgment. In situations where we are unable to develop new data for the CCP, the plan may identify the need for further data collection. In such cases we may delay decision making, pending additional data collection and analysis.

Comment: A section in the planning policy should be dedicated to issues external to refuge boundaries including how land acquisition and other ecosystem management tools fit in the context of Comprehensive Conservation Planning.

Response: We recognize the need for this additional guidance. Consequently, we will be adding an additional chapter, Land Protection Planning (602 FW 2), to the Service Manual in the near future.

Comment: Endangered and threatened species should be addressed separately within the planning policy. The Service's recommendations should provide direction for specific conservation and recovery planning for threatened and endangered species. Each refuge should be required to integrate specific threatened and endangered species Conservation and Recovery Plan implementation tasks into their CCP.

Response: We do not believe there is a need to address endangered and threatened species separately within our policy. We address endangered and threatened species concerns at various steps throughout the planning process (see 602 FW 1.7 A and 602 FW 3.4 C (1)(a), (1)(e), (4)(d), (4)(f), (5)(a)). We agree that we should integrate Conservation and Recovery Plan implementation tasks for threatened and endangered species into refuge CCPs, where applicable. We advocate the development of goals, objectives, and strategies for the recovery and conservation of threatened and endangered species for any refuge with the potential for such.

Comment: The U.S. General Accounting Office (GAO) has identified four practical steps to successfully implementing ecosystem management (RCED-99-64). The Service should identify opportunities to make the proposed planning process more consistent with these steps, to ease the transition to an ecosystem approach. It is believed that the steps for ecosystem management that GAO has identified are consistent with the Refuge Improvement Act and with the Service's compatibility approach to determining the appropriateness of refuge uses.

Response: We feel the recommended change is beyond the scope of this policy.

Comment: Section 2.4C (1)(d) should be modified to require identification of the relationship between the planning unit and its watershed, and planning teams should be encouraged to identify water quality threats by collaborating with the Environmental Protection Agency (EPA).

Response: We see no need to specifically mention the relationship between the planning unit and its watershed since this relationship is encompassed by 602 FW 3.4 C (1)(e)(ii). With regard to the identification of water quality threats, we have incorporated the above suggestion with the exception that we did not specifically mention collaboration with the EPA. We added text to 602 FW 3.4 C (1)(e) that states: “Obtain information from Federal, Tribal, State, and local agencies * * *” We imply consultation with the EPA, as appropriate.

Comment: The Forest Service rule, released on October 5, 1999, acknowledges the dynamic nature, uncertainty and inherent variability of ecological systems of which we have incomplete data and knowledge. As a result the Forest Service explicitly encourages that variable natural processes be considered when defining desired future ecological conditions. The Forest Service also shifts its perspective from a focus on habitat and population to a focus on the ecosystem conditions necessary to assure a high likelihood of maintaining the viability of native and desired non-native species over time within the plan area. This shift in perspective would benefit the management of wildlife refuges as well.

Response: We recognize the benefit of looking at the ecosystem context of each refuge. Our policy provides direction for the Refuge Manager and planning team to assess ecological conditions of the watershed, ecosystem, and the relationship to the refuge (see 602 FW 1.7). Our policy also provides direction for adaptive management and monitoring, as well as direction to change refuge management in the event of new circumstances or information (see 602 FW 3). The Service also has existing policy and guidance on ecosystem management and will be developing new policy and guidance on ecological integrity.

Comment: Section 2.4 C (1)(d) should be modified to direct the planning team to identify and describe as appropriate, the structures, components, and functions of the ecosystem(s) of which the refuge is a part. In addition, Section 2.4 C (4)(d) should be modified to direct planning teams to develop objectives for ecosystem structures, components, and functions to maintain or restore the ecological health of the refuge.

Response: We revised Section 3.4 C (1)(e) to reflect that the planning team should identify and describe the structures, components, and functions of the ecosystem(s) of which the planning unit is a part. However, we do not believe the planning team should be responsible for developing objectives related to the larger ecosystem. This responsibility belongs to our ecosystem teams.

Comment: Section 2.4 C (3)(b) should be modified to require that planning teams “determine significant issues and the appropriate scale at which to consider those issues.”

Response: We made the recommended change in the final policy. See 602 FW 3.4 C (3)(b).

Comment: The Forest Service rule proposed that “focal species” should be selected to serve as surrogate measures in the assessment of ecological integrity. We believe that with limited resources for monitoring and a need to assess the health of refuge habitats and ecological processes, the Service should adopt this strategy for monitoring ecological health. Specifically, 602 FW 2.4 C (7) should be modified to require monitoring of focal species, since their status and time trend provide insights into the integrity of the larger ecological system to which refuges belong, and ecological health is a strong overarching indicator of whether refuge management is generally successful or requires significant modification.

Response: We feel this recommendation is more appropriately addressed in 701 FW 2 (the Service Manual chapter dealing with inventory and monitoring). This policy, currently under revision, will help provide guidance on how to accomplish monitoring strategies identified in the CCP.

Comment: It would be useful for Refuge Managers to seek out information regarding trends in refuge ecological conditions. It is important not only to know the current status of refuge conditions, but also whether they are improving or declining, in order to most effectively prioritize management activities. Hence, Section 2.4 C (1)(d) should be modified to read: “Identify and describe the following conditions and their trends as appropriate.”

Response: We made the recommended change in the final policy. See 602 FW 3.4 C (1)(e).

Comment: It is recommended that Section 2.4 (1)(d) be amended so that planning teams would be strongly encouraged to collaborate with adjacent landowners including State, Federal, Tribal, and private landowners, especially to acquire data that may be relevant to planning decisions. Furthermore, planning teams should be encouraged to collaborate as appropriate with the Environmental Protection Agency, the Department of Agriculture's Forest Service and Natural Resources Conservation Service, the Department of Commerce's National Marine Fisheries Service, the United States Army Corps of Engineers, and relevant bureaus within the Department of the Interior such as the U.S. Geological Survey. Each of these agencies may be able to provide information that may dramatically improve the quality of CCPs with limited expense by the Service.

Response: We incorporated the above suggestion into the final policy. We added language to 602 FW 3.4 C (1)(e) which states: “Obtain information from Federal, Tribal, State and local agencies, and private landowners concerning land management issues that may impact or relate to the planning unit.” We also substantially modified this section of the draft policy to include a wide variety of additional sources of information we will consult during the preplanning stage.

Comment: Section 2.4 C (3)(b) limits the consideration of issues in the CCP to those that are determined to be “significant” by the planning team. To ensure consistency across refuge units and to ensure that important ecological or public use issues are not excluded from consideration in some plans, it is necessary to establish criteria for determining which issues are “significant” and thereby warrant consideration in the CCP.

Response: We incorporated the above recommendation into the final policy. We added the following language to the end of Section 602 FW 3.4 C (3)(b): “Significant issues typically are those that are: within our jurisdiction, suggest different actions or alternatives, and will influence our decision.”

Comment: Section 2.4 C (4) should be significantly modified to ensure wildlife conservation objectives are considered first in the planning process. In addition, another slight modification of this section should be considered. For example, 602 FW 2.4 C (4)(e) directs planning teams to “develop inventory and monitoring strategies to measure implementation results in quantifiable and verifiable ways.” This should be elaborated to include direction to prioritize inventory and monitoring efforts in a manner “that maximizes the usefulness of acquired information in directing management activities toward the improved ecological health of the refuge.” This additional direction will lead to a more productive use of limited resources for monitoring.

Response: We feel this recommendation is more appropriately addressed in 701 FW 2 (the Service Manual chapter dealing with inventory and monitoring). This policy, currently under revision, will provide guidance on how to accomplish monitoring strategies identified in the CCP.

VII. Describing the Relationship of CCPs to Refuge Purposes and Refuge System Mission

Comment: Some commenters requested that the agency not overlook the quality of the individual refuges for sake of the “System.”

Response: Many sections of the policy identify the need for the planning team to acknowledge individual refuge purposes and functions. For example, see Sections 1.3 and 3.1.

Comment: Some comments were received that requested the CCP policy provide more guidance on the implications of the Service's ecosystem approach to refuge planning and management. In particular, it has been noted that while the Service's ecosystem approach has goals for the effective conservation of natural biological diversity, and the perpetuation of natural communities, many refuges have created or possess artificial habitats, croplands, dikes and other structures. It has been pointed out that more guidance may be needed to help reconcile the differences between areas which may be managed for “naturalness” and those that may need to be highly manipulated or developed to support objectives.

Response: We recognize the great variability in the Refuge System. Many areas are representative of intact ecosystems or vegetation communities, while we may have developed others to provide for wetland habitats lost at a greater scale. We will require refuge planning efforts to review a host of information, including establishing authorities, refuge purposes, past management practices, ecosystem and watershed goals, activities of neighboring lands, and species goals and objectives throughout their ranges. Goals for the restoration or maintenance of biological diversity will be high on our list of priorities for many refuges, however, it will not be appropriate for every refuge in the Refuge System. For unless restoration of wildlife habitat takes place on vast developed areas so that we no longer have to manage highly manipulated refuges to make up for the loss of wetlands or the recovery and restoration of habitats for endangered species, some of our refuge management will continue to be “unnatural,” yet for the benefit of numerous wildlife species. We will be working nationally, and with our partners, to help identify and define how units of the Refuge System can best contribute to maintaining biodiversity and the context of each refuge within the greater ecosystem and landscape.

VIII. Addressing Issues Related to Recreation and Public Use

Comment: The National Wildlife Refuge System Improvement Act makes it clear that part of the planning process must be to consider, on a priority basis, wildlife-dependent uses and to facilitate such uses. In order to carry out the intent of Congress, the Service should add real “requirements and standards” to assure that adequate attention is paid to wildlife. For example, there should be language in Section 2.3 dealing with wildlife-dependent uses. This section sets out the goals for Comprehensive Conservation Planning mentioning the ecosystem concept, the use of sound professional judgment, public comment and several other “goals,” but nowhere does it refer to the goal of giving priority consideration to wildlife-dependent uses or to facilitating them. The commenter recommends the insertion of a new Subsection E, reading as follows, and the re-lettering of the existing Subsections, E, F, and G:

“E. To assure that wildlife-dependent recreational uses receive priority consideration during the planning process and that plans include steps to facilitate such uses.”

Response: We have inserted a new Subsection 602 FW 3.3 E in the final policy that reads: “To ensure that the six priority wildlife-dependent recreational uses receive priority consideration during the preparation of CCPs.” We have re-lettered subsequent subsections F, G, and H.

Comment: In Section 2.4 B (1)(d), which deals with “planning area, data needs, and data standards” in the preplanning process, item (x) should be expanded. Currently, that item says that the planning team should “identify and describe the following * * * (x) opportunities for compatible wildlife-dependent recreation.” This is quite weak compared to the stress on “facilitating” wildlife-dependent recreational uses contained in the Refuge Improvement Act. Item (x) should be revised to read as follows:

“(x) existing wildlife-dependent recreational uses, opportunities for continuing, facilitating and expanding such uses, and strategies to accomplish such continuation, facilitation and expansion.”

Response: We have modified the wording in Step 1, “Preplanning: Planning the Plan, (e) Planning Area and Data Needs” (602 FW 3.4 C (1)(e)), to read as follows: “(xix) Existing and potential opportunities for wildlife-dependent recreation.” Developing the strategies associated with continuing, facilitating, or expanding such uses more appropriately belongs in Step 4, “Develop and Analyze Alternatives, Including the Proposed Action, (e) Strategy Development.”

Comment: In Section 2.4 B(1)(f), Vision and Goals, the third sentence contains a reference to “compatible wildlife-dependent recreation” in discussing the minimum goals that should be included in a CCP. This sentence should be expanded to read:

“At a minimum, each refuge should develop goals within the following management areas: the continuation, facilitation and expansion of opportunities for compatible wildlife-dependent recreation * * *”

Response: We believe the policy's current wording is appropriate.

Comment: Section 2.4 B(1)(g), Internal Scoping, refers to identification of problems with wildlife and habitats, assessments of water quality and quantity, potential need for administrative sites or visitor facilities, land acquisition, and controversial management actions. There is no reference at all to the continuation, facilitation and expansion of wildlife-dependent uses! The following sentence should be added to this provision:

“We also need to evaluate the current or potential wildlife-dependent uses and consider opportunities to continue, facilitate and expand such uses.”

Response: We have moved the list to which you refer to Section 3.4 C (1)(e) “Planning Area and Data Needs,” and have added the following item, “(xix) Existing and potential opportunities for wildlife-dependent recreation.”

Comment: There is concern that with no public review and comment process in place, some wildlife-dependent uses may be allowed that are detrimental to the refuge and/or to wildlife inhabiting the refuge. Such uses may be allowed for many years, as refuges are not required to prepare CCPs until October 2012. The planning policy should reflect that a public review and comment process will be implemented for all interim wildlife-dependent uses.

Response: We believe we adequately addressed this concern in Step 5, “Prepare Draft Plan and NEPA Document, Subpart (c) Pre-acquisition Compatibility Determinations.” This subpart requires that: “If our proposed action includes expanding the planning unit by acquiring new lands, the draft CCP and NEPA documents also must identify any existing wildlife-dependent recreational public uses deemed compatible that we will allow to continue after acquisition.” The public will have an opportunity to review and comment on all compatibility determinations. Our refuge planning policy directs that we incorporate pre-acquisition compatibility determinations into the draft CCP and NEPA document, where they will receive their required public review and comment.

Comment: A few commenters stated confusion with, or recommended changes to, the definition of wildlife-dependent recreational uses. In particular, some suggested we reconsider trapping, and other uses, as a wildlife-dependent recreational use.

Response: While we recognize that trapping of animals may be a form of wildlife-dependent recreation, the Refuge Administration Act, as amended, binds our definition of wildlife-dependent recreational uses, which only includes hunting, fishing, wildlife observation and photography, environmental education and interpretation. These are the priority public uses of the National Wildlife Refuge System. We recognize that we may consider other recreational and other activities, such as trapping, during the planning process. Such other uses or activities proposed on a refuge may or may not be both appropriate on the refuge and compatible with refuge purposes. We would not label other recreational uses that we find to be appropriate and compatible through the planning process as wildlife-dependent recreational uses, but would place them in a category of other recreation. Specific to trapping, we note that in many cases we would classify this activity as a commercial use, and require a permit and compatibility determination. We acknowledge that many of the wildlife-dependent recreational uses are “more than recreation,” in that the outdoor experience can provide the visitor with a wealth of experiences. However, we support and are bound by the definition in the Act.

Comment: At least one commenter requested that we consider establishing carrying capacities for public uses and other uses.

Response: The Service is developing new policies on habitat management, priority wildlife-dependent recreation, and refuge uses (appropriate uses). We will recommend that carrying capacities be considered in the development of these policies.

Primary Author

Charles J. Houghten, Acting Chief, Division of Refuge Planning, Pacific Region, U.S. Fish and Wildlife Service, is the primary author of this notice.

Refuge Management—Part 602 National Wildlife Refuge System Planning

Chapter 1 Refuge Planning Overview.—602 FW 1

1.1 What is the purpose of Part 602 and this chapter? Part 602 provides guidance for National Wildlife Refuge System (Refuge System) planning, including specific chapters on the Comprehensive Conservation Planning Process (602 FW 3) and Step-Down Management Plans (602 FW 4). This chapter (602 FW 1) provides an overview of refuge planning. We will add an additional chapter, Land Protection Planning (602 FW 2), in the near future.

1.2 To what does Part 602 apply? Part 602 applies to all units of the National Wildlife Refuge System.

1.3 What is our policy for managing refuges? The U.S. Fish and Wildlife Service (Service or we) will manage all refuges in accordance with an approved Comprehensive Conservation Plan (CCP), which, when implemented, will achieve refuge purposes; help fulfill the Refuge System mission; maintain and, where appropriate, restore the ecological integrity of each refuge and the Refuge System; help achieve the goals of the National Wilderness Preservation System; and meet other mandates. The CCP will guide management decisions and set forth goals, objectives, and strategies to accomplish these ends. We also may require step-down management plans to provide additional details about meeting CCP goals and objectives and to describe strategies and implementation schedules. Each plan will be founded on principles of sound fish and wildlife management and available science, and be consistent with legal mandates and our other policies, guidelines, and planning documents. We will prepare refuge plans that, above all else, ensure that wildlife comes first on national wildlife refuges.

1.4 What are our authorities? Authorities listed below include laws that require us to manage units of the Refuge System in accordance with approved CCPs and to integrate refuge planning decisions with the National Environmental Policy Act (NEPA) process.

A. National Wildlife Refuge System Administration Act of 1966 as amended by the National Wildlife Refuge System Improvement Act of 1997, 16 U.S.C. 668dd-668ee (Refuge Administration Act). This law states that “* * * the Secretary shall—(i) propose a comprehensive conservation plan for each refuge or related complex of refuges * * * in the System; (ii) publish a notice of opportunity for public comment in the Federal Register on each proposed conservation plan; (iii) issue a final conservation plan for each planning unit consistent with the provisions of this Act and, to the extent practicable, consistent with fish and wildlife conservation plans of the State in which the refuge is located; and (iv) not less frequently than 15 years after the date of issuance of a conservation plan under clause (iii) and every 15 years thereafter, revise the conservation plan as may be necessary.” This law provides additional detail on conservation planning for the Refuge System. Above all else, the law directs that wildlife comes first in the National Wildlife Refuge System. It does so by establishing that wildlife conservation is the principal mission of the Refuge System; by requiring that we maintain the biological integrity, diversity, and environmental health of each refuge and the Refuge System; and by mandating that we monitor the status and trends of fish, wildlife, and plants on each refuge.

B. Alaska National Interest Lands Conservation Act of 1980 as amended, 16 U.S.C. 140hh-3233, 43 U.S.C. 1602-1784 (ANILCA). Section 304 states, in part, “The Secretary shall prepare, and from time to time, revise, a comprehensive conservation plan * * * for each refuge.” You may find additional guidance on the content of these plans and management direction in this and other sections of ANILCA. If any provisions of the National Wildlife Refuge System Improvement Act of 1997 conflict with the provisions of ANILCA, the provisions of ANILCA will prevail for refuges in Alaska.

C. National Environmental Policy Act (NEPA) of 1969, as amended, 42 U.S.C. 4321-4347, and the Council on Environmental Quality's (CEQ) Regulations for Implementing the Procedural Provisions of NEPA, 40 CFR 1500-1508. NEPA is the basic national charter for protection of the environment. The procedural provisions in CEQ's regulations require Federal agencies to integrate the NEPA process with other planning at the earliest possible time in order to provide a systematic interdisciplinary approach; identify and analyze the environmental effects of their actions; describe appropriate alternatives to the proposal; involve the affected State and Federal agencies, Tribal governments, and the affected public in the planning and decision-making process; and fully integrate all refuge proposals that may have an impact on the environment with the provisions of NEPA (40 CFR 1501.2).

1.5 What are the goals of refuge planning?

A. To ensure that wildlife comes first in the National Wildlife Refuge System.

B. To ensure that we manage the Refuge System for the conservation of fish, wildlife, plants, and their habitats and that refuge management achieves our policies, the Refuge System mission, and the purposes for which the refuge was established.

C. To ensure that the administration of the Refuge System contributes to the conservation of the ecological integrity of each refuge, the Refuge System, and to the structure and function of the ecosystems of the United States.

D. To ensure opportunities to participate in the refuge planning process are available to our other programs; Federal, State, and local agencies; Tribal governments; conservation organizations; adjacent landowners; and the public.

E. To provide a basis for adaptive management by monitoring progress, evaluating plan implementation, and updating refuge plans accordingly.

F. To promote efficiency, effectiveness, continuity, and national consistency in refuge management.

G. To help ensure consistent System-wide consideration of the six priority public uses—hunting, fishing, wildlife observation and photography, and environmental education and interpretation—established by the Refuge Administration Act and to ensure that these uses receive enhanced consideration over general public uses in the Refuge System.

H. To ensure that we preserve the wilderness character of refuge lands.

1.6 What do the following terms mean? (Quotations are from the Refuge Administration Act unless otherwise noted)

A. Adaptive Management. The rigorous application of management, research, and monitoring to gain information and experience necessary to assess and modify management activities. A process that uses feedback from refuge research and monitoring and evaluation of management actions to support or modify objectives and strategies at all planning levels.

B. Alternatives. Different sets of objectives and strategies or means of achieving refuge purposes and goals, helping fulfill the Refuge System mission, and resolving issues.

C. Biological Diversity. The variety of life, including the variety of living organisms, the genetic differences among them, and the communities in which they occur.

D. Biological Integrity. Biotic composition, structure, and functioning at the genetic, organism, and community levels consistent with natural conditions, including the natural biological processes that shape genomes, organisms, and communities.

E. Comprehensive Conservation Plan (CCP). A document that describes the desired future conditions of a refuge or planning unit and provides long-range guidance and management direction to achieve the purposes of the refuge; helps fulfill the mission of the Refuge System; maintains and, where appropriate, restores the ecological integrity of each refuge and the Refuge System; helps achieve the goals of the National Wilderness Preservation System; and meets other mandates.

F. Coordination Area. A wildlife management area made available to a State, by “(A) cooperative agreement between the United States Fish and Wildlife Service and the State fish and game agency pursuant to Section 4 of the Fish and Wildlife Coordination Act (16 U.S.C. 664); or (B) by long-term leases or agreements pursuant to the Bankhead-Jones Farm Tenant Act (50 Stat. 525; 7 U.S.C. 1010 et seq.).” States manage Coordination Areas, but they are part of the Refuge System. We do not require CCPs for Coordination Areas.

G. Ecological Integrity. The integration of biological integrity, natural biological diversity, and environmental health; the replication of natural conditions.

H. Ecosystem. A biological community together with its environment, functioning as a unit. For administrative purposes, we have designated 53 ecosystems covering the United States and its possessions. These ecosystems generally correspond with watershed boundaries, and their sizes and ecological complexity vary.

I. Environmental Health. Abiotic composition, structure, and functioning of the environment consistent with natural conditions, including the natural abiotic processes that shape the environment.

J. Goal. Descriptive, open-ended, and often broad statement of desired future conditions that conveys a purpose but does not define measurable units.

K. Issue. Any unsettled matter that requires a management decision, e.g., an initiative, opportunity, resource management problem, threat to the resources of the unit, conflict in uses, public concern, or the presence of an undesirable resource condition.

L. National Wildlife Refuge (refuge). “A designated area of land, water, or an interest in land or water within the Refuge System, but does not include Coordination Areas.” Find a complete listing of all units of the Refuge System in the current Annual Report of Lands Under Control of the U.S. Fish and Wildlife Service.

M. National Wildlife Refuge System Mission (mission). “The mission of the System is to administer a national network of lands and waters for the conservation, management, and, where appropriate, restoration of the fish, wildlife, and plant resources and their habitats within the United States for the benefit of present and future generations of Americans.”

N. Objective. A concise statement of what we want to achieve, how much we want to achieve, when and where we want to achieve it, and who is responsible for the work. Objectives derive from goals and provide the basis for determining strategies, monitoring refuge accomplishments, and evaluating the success of strategies. Make objectives attainable, time-specific, and measurable.

O. Planning Area. The area upon which the planning effort will focus. A planning area may include lands outside existing planning unit boundaries currently studied for inclusion in the Refuge System and/or partnership planning efforts. It also may include watersheds or ecosystems outside of our jurisdiction that affect the planning unit. At a minimum, the planning area includes all lands within the authorized boundary of the refuge.

P. Planning Team. Planning teams are interdisciplinary in membership and function. Teams generally consist of a Planning Team Leader, Refuge Manager and staff biologists, a state natural resource agency representative, and other appropriate program specialists (e.g., social scientist, ecologist, recreation specialist). We also will ask other Federal and Tribal natural resource agencies to provide team members, as appropriate. The planning team prepares the CCP and appropriate NEPA documentation.

Q. Planning Team Leader. The Planning Team Leader typically is a professional planner or natural resource specialist knowledgeable of the requirements of NEPA and who has planning experience. The Planning Team Leader manages the refuge planning process and ensures compliance with applicable regulatory and policy requirements.

R. Planning Unit. A single refuge, an ecologically or administratively related refuge complex, or distinct unit of a refuge. The planning unit also may include lands currently outside refuge boundaries.

S. Purposes of the Refuge. “The purposes specified in or derived from the law, proclamation, executive order, agreement, public land order, donation document, or administrative memorandum establishing, authorizing, or expanding a refuge, refuge unit, or refuge subunit.” For refuges that encompass Congressionally designated wilderness, the purposes of the Wilderness Act are additional purposes of the refuge.

T. Refuge Operating Needs System (RONS). The Refuge Operating Needs System is a national database that contains the unfunded operational needs of each refuge. We include projects required to implement approved plans and meet goals, objectives, and legal mandates.

U. Step-Down Management Plan. A plan that provides specific guidance on management subjects (e.g., habitat, public use, fire, safety) or groups of related subjects. It describes strategies and implementation schedules for meeting CCP goals and objectives.

V. Strategy. A specific action, tool, technique, or combination of actions, tools, and techniques used to meet unit objectives.

W. U.S. Fish and Wildlife Service Mission. Our mission is working with others to conserve, protect, and enhance fish, wildlife, and plants and their habitats for the continuing benefit of the American people.

X. Wilderness Review. The process we use to determine if we should recommend Refuge System lands and waters to Congress for wilderness designation. The wilderness review process consists of three phases: inventory, study, and recommendation. The inventory is a broad look at the refuge to identify lands and waters that meet the minimum criteria for wilderness. The study evaluates all values (ecological, recreational, cultural), resources (e.g., wildlife, water, vegetation, minerals, soils), and uses (management and public) within the Wilderness Study Area. The findings of the study determine whether we will recommend the area for designation as wilderness.

Y. Wildlife-Dependent Recreational Use. “A use of a refuge involving hunting, fishing, wildlife observation and photography, or environmental education and interpretation.” These are the six priority public uses of the Refuge System as established in the National Wildlife Refuge System Administration Act, as amended. Wildlife-dependent recreational uses, other than the six priority public uses, are those that depend on the presence of wildlife. We also will consider these other uses in the preparation of refuge CCPs, however, the six priority public uses always will take precedence.

Z. Vision Statement. A concise statement of what the planning unit should be, or what we hope to do, based primarily upon the Refuge System mission and specific refuge purposes, and other mandates. We will tie the vision statement for the refuge to the mission of the Refuge System; the purpose(s) of the refuge; the maintenance or restoration of the ecological integrity of each refuge and the Refuge System; and other mandates.

1.7 What is the relationship between Refuge System planning and other planning efforts? Refuge planning should maintain continuity and consistency with other planning efforts. The relationship between these planning efforts is hierarchical, starting from national plans to regional, State, and ecosystem-level plans, stepping down to refuge-specific plans. See Exhibit 1-1. The process of adaptive management uses feedback from refuge research and monitoring, and evaluation of management actions to support or modify objectives and strategies at all planning levels.

A. National and Regional Plans. We will review other Service documents that address particular programs, species, habitats, public uses, economic uses, archaeological resources, etc., when identifying issues to address in refuge planning. National and regional goals, objectives, strategies, and policies influence management planning for refuges. Source documents include: Fulfilling the Promise: The National Wildlife Refuge System, the Service Manual, the North American Waterfowl Management Plan, National Outreach Strategy, regional resource plans, endangered species recovery plans, migratory bird and flyway plans, fishery resource plans, Joint Venture plans, Partners in Flight plans, and strategies to promote the conservation of natural biological diversity. The contribution of the refuge to achieving regional and national goals will help implement our mission and ensure integrity of the Refuge System.

B. Service Ecosystem Plans, State Fish and Wildlife Conservation Plans, and Other Landscape-Level Plans. Refuge planning will reflect conservation goals and objectives for the landscapes in which the refuges are located. Refuges must review goals and objectives of existing ecosystem plans and determine how the refuge can best contribute to the functioning of the ecosystem. We will coordinate refuge planning with State conservation agencies, Tribal governments, other government agencies, and nongovernmental organizations. To the extent practicable, refuge plans will be consistent with the fish and wildlife conservation plans of the State and the conservation programs of Tribal, public, and private partners within the ecosystem.

C. Land Acquisition Planning. We integrate land acquisition and CCP planning throughout the land acquisition planning process. We describe three opportunities for integration in the following paragraphs:

(1) Refuge planning typically begins before the establishment of an area as a unit of the Refuge System. Land acquisition planning (usually resulting in a Land Protection Plan [LPP] and associated NEPA document) is a preliminary step in the continuous, integrated refuge planning process. This process eventually results in completion of a CCP and appropriate refuge step-down management plans. Other land use, species, or habitat protection planning efforts, or legislative or executive directives may precede land acquisition planning. Refuge establishment documentation (LPP and associated NEPA document) should identify the approved refuge boundary, refuge purpose(s), goals, and general management direction. See 341 FW 2.

(2) Planning for proposed new refuges or major expansions to existing refuges not undergoing a CCP will include the development of a Conceptual Management Plan (CMP) for the new unit. The CMP provides general, interim management direction. The CMP should identify refuge purpose(s), interim goals, and pre-existing compatible wildlife-dependent recreational uses (hunting, fishing, wildlife observation, photography, environmental education and interpretation) that we will allow to continue on an interim basis. The interim period is the duration of time between establishment of a new refuge or refuge expansion and the completion of an approved CCP. Refuges functioning under CMPs also will develop step-down management plans, as appropriate.

(3) Fully integrate land acquisition planning efforts into CCP preparation whenever possible. Some proposed new refuges or refuge expansions may warrant CCP development at the time of acquisition planning. Include appropriate Realty staff on the planning team when considering land acquisition during the CCP process to ensure consistency with land acquisition policy. See 341 FW 2.

D. Comprehensive Conservation Plans (CCP). The CCP is a document that describes the desired future conditions of a refuge or planning unit and provides long-range guidance and management direction to achieve the purposes of the refuge; helps fulfill the mission of the Refuge System; maintains and, where appropriate, restores the ecological integrity of each refuge and the Refuge System; helps achieve the goals of the National Wilderness Preservation System; and meets other mandates. See 602 FW 3. For refuges established after October 9, 1997, prepare CCPs when the refuge obtains staff and acquires a land base sufficient to achieve refuge purposes, but no later than 15 years after we establish the refuge. Convert refuge long-range management plans (e.g., master plans and refuge management plans) approved prior to October 9, 1997, into CCPs with appropriate public involvement and NEPA compliance no later than October 2012.

E. Step-Down Management Plans. Step-down management plans provide the details (strategies and implementation schedules) necessary to meet goals and objectives identified in the CCP. CCPs will either incorporate or identify step-down management plans required to fully implement the CCP. After completion of the CCP, modify existing step-down management plans to accomplish stated goals and objectives as needed. See 602 FW 4.

F. Integration With Budget Development and Implementation. We will use CCPs to guide annual budget requests. We will identify the unfunded costs of implementing strategies in refuge plans using our budget databases, including the Refuge Operating Needs System (RONS), Maintenance Management System (MMS), and Land Acquisition Priority System (LAPS). As we complete or update each plan, we will review and update these databases to incorporate projects identified in CCPs. The total funding and staffing identified in these databases represents the additional resources required to fully implement the refuge plans.

1.8 Who is responsible for implementing our policy?

A. Director. The Director is responsible for providing national policy and ensuring adherence to refuge planning policy.

B. Regional Director. The Regional Director: (1) Ensures compliance with national planning policy, NEPA, and other applicable laws and policies; (2) approves CCPs, amendments to CCPs, and associated NEPA and other agency compliance documents; and (3) ensures that we manage refuges in accordance with approved CCPs. The Regional Director or designee approves step-down management plans, determines planning priorities, and allocates funds to develop and implement plans.

C. Regional Chief, National Wildlife Refuge System. The Regional Chief, National Wildlife Refuge System, is responsible for initiating and completing refuge plans, budgeting for planning, ensuring programmatic staff participation, and developing regional planning priorities. The Special Assistant for Ecosystems is responsible for ensuring that ecosystem teams participate in developing plans and implementing approved plans.

D. Refuge Planning Coordinator. The Washington Office, Division of Refuges, and each Region will designate a Refuge Planning Coordinator. In cooperation with representatives of our National Conservation Training Center, the Coordinators will establish and maintain appropriate training courses. Refuge Planning Coordinators will provide guidance and direction to assist Planning Team Leaders, regional and field-based planning staff, and planning team members. The Coordinators also are responsible for maintaining regional planning schedules and updating status reports and funding needs for the planning program. The Coordinators periodically will meet to review and recommend changes to planning policy, resolve common planning problems and issues, and help ensure national consistency.

E. Planning Team Leader. The Planning Team Leader is responsible for initiation of the planning process, preparation and completion of refuge plans, and ensuring that we meet compliance requirements. The Planning Team Leader, in consultation with the Refuge Manager, is responsible for identifying appropriate and proper representation on the interdisciplinary planning team, including team members, support personnel, and outside or contract assistance. The Refuge Manager and Planning Team Leader will submit the final CCP through line supervision for concurrence and approval by the Regional Director.

F. Refuge Supervisor. The Refuge Supervisor is responsible for overseeing participation of the Refuge Manager in CCP preparation and implementation, and for providing direction and guidance on compliance with Refuge System policy and regulations. Once the Planning Team Leader and Refuge Manager submit the plan, the Refuge Supervisor will be responsible for review and concurrence of the plan prior to its submission to the next level.

G. Refuge Manager. The Refuge Manager participates in the preparation of the CCP working closely with the Planning Team Leader. The Refuge Manager assures that the refuge staff participates in plan development. The Refuge Manager and Planning Team Leader submit the final CCP through line supervision for concurrence and approval by the Regional Director. The Refuge Manager is responsible for: making compatibility determinations; implementing approved CCPs and step-down management plans; tracking progress; and recommending changes to plans based on monitoring and evaluation. The Refuge Manager also reports plan accomplishments through standard reporting mechanisms and budgeting procedures.

H. Planning Team. The planning team, coordinated by the Planning Team Leader, is responsible for the initiation and completion of all planning steps, including public involvement and NEPA compliance, resulting in a refuge CCP. We describe the steps in 602 FW 3.4C. The planning team is responsible for the CCP's content in terms of information relating to management of refuge resources and use activities. The planning team will ensure that the CCP, when implemented, will achieve the purposes of the refuge and help fulfill the Refuge System mission.

I. Regional Environmental (NEPA) Coordinator. The Regional Environmental (NEPA) Coordinator provides technical assistance on NEPA-related matters.

BILLING CODE 4310-55-P

BILLING CODE 4310-55-C

Refuge Management—Part 602 National Wildlife Refuge System Planning

Chapter 3 Comprehensive Conservation Planning Process 602—FW 3

3.1 What is the purpose of this chapter? Comprehensive Conservation Plans (CCPs) describe the desired future conditions of a refuge and provide long-range guidance and management direction to achieve refuge purposes; help fulfill the National Wildlife Refuge System (Refuge System) mission; maintain and, where appropriate, restore the ecological integrity of each refuge and the Refuge System; help achieve the goals of the National Wilderness Preservation System; and meet other mandates. The purpose of this chapter is to describe a systematic decision-making process that fulfills the requirements we are establishing for developing a CCP. This policy provides guidance, step-by-step direction, and establishes minimum requirements for all CCPs. Experienced planners lead the CCP process. We require all of our planners and strongly encourage Refuge Managers and other key planning team members attend the National Conservation Training Center (NCTC) course on Refuge Comprehensive Conservation Planning.

3.2 What is our policy for CCPs? The U.S. Fish and Wildlife Service (Service or we) must manage all national wildlife refuges according to an approved CCP. We will prepare a CCP by October 2012, for each refuge in existence at the time of passage of the National Wildlife Refuge System Improvement Act. For refuges established after passage of this Act, we will prepare CCPs when we staff the refuge and acquire a land base sufficient to achieve refuge purposes, but no later than 15 years after establishment of the refuge. To the extent practicable, we will coordinate the development of CCPs with affected States. We will continue to manage each refuge or planning unit with existing plans effective prior to October 9, 1997, to the extent these plans are consistent with the Refuge Administration Act, until we revise such plans or new CCPs supersede them. Upon completion of a CCP, we will manage the refuge or planning unit in a manner consistent with the CCP. We will revise the CCP every 15 years thereafter, or earlier, if monitoring and evaluation determine that we need changes to achieve planning unit purpose(s), vision, goals, or objectives.

3.3 What are our goals for Comprehensive Conservation Planning?

A. To ensure that wildlife comes first in the National Wildlife Refuge System and that we manage each refuge to help fulfill the mission of the Refuge System, maintain and, where appropriate, restore the ecological integrity of each refuge and the Refuge System, as well as achieve the specific purposes for which the refuge was established.

B. To provide a clear and comprehensive statement of desired future conditions for each refuge or planning unit.

C. To encourage use of an ecosystem approach when we conduct refuge planning. This includes conducting concurrent refuge planning for refuges within the same watershed or ecosystem and considering the broader goals and objectives of the refuges' ecosystems and watersheds when developing management direction (see Ecosystem Approach to Fish and Wildlife Conservation [Part 052 of the Service Manual]).

D. To support management decisions and their rationale by using a thorough assessment of available science derived from scientific literature, on-site refuge data, expert opinion, and sound professional judgment.

E. To ensure that the six priority wildlife-dependent recreational uses receive priority consideration during the preparation of CCPs.

F. To provide a forum for the public to comment on the type, extent, and compatibility of uses on refuges, including priority wildlife-dependent recreational uses.

G. To provide a uniform basis for budget requests for operational, maintenance, and capital improvement programs.

H. To ensure public involvement in refuge management decisions by providing a process for effective coordination, interaction, and cooperation with affected parties, including Federal agencies, State conservation agencies, Tribal governments, local governments, conservation organizations, adjacent landowners, and interested members of the public.

3.4 What is the Comprehensive Conservation Planning process?

A. The CCP process (see Exhibit 3-1) provides consistent guidelines for developing CCPs. We designed the planning process to result in the development of vision statements, goals, objectives, and strategies that achieve refuge or planning unit purpose(s); help fulfill the Refuge System mission; maintain and, where appropriate, restore the ecological integrity of each refuge and the Refuge System; help achieve the goals of the National Wilderness Preservation System; and meet other mandates.

B. Each CCP will comply with the provisions of the National Environmental Policy Act (NEPA) through the concurrent preparation of an Environmental Assessment (EA) or Environmental Impact Statement (EIS) that will accompany or be integrated with the CCP. We have integrated NEPA compliance requirements directly into the CCP process. When preparing an EA, consider integrating it into the draft CCP. When preparing an EIS with a CCP, integrate the documents. Following completion of the final CCP/NEPA document, the product of the planning process will be a stand-alone CCP, separate from the EA or EIS.

C. Our CCP planning process consists of the following eight steps. Although we display the steps sequentially, CCP planning and NEPA documentation are iterative processes. Cycling through some of the steps more than once or having several steps occurring simultaneously is normal. Actions within each of the eight steps may not be sequential.

(1) Preplanning: Planning the Plan

(a) Planning Team. The Regional Chief, National Wildlife Refuge System, appoints the Planning Team Leader. The Planning Team Leader assembles the planning team, which consists of the Planning Team Leader, the Refuge Manager and key staff members, and appropriate support staff or specialists from both regional and field offices (e.g., fisheries, cultural resources, endangered species, external affairs/outreach, realty, contaminants, migratory birds, water resources, etc.). We will provide representatives from appropriate State and Tribal conservation agencies, and any public agency that may have a direct land management relationship with the refuge, the opportunity to serve on planning teams. The Planning Team Leader will prepare a formal written request for participation by appropriate State and Tribal conservation agencies for signature by the Regional Director. Included in this request is an invitation to attend the NCTC course on Refuge Comprehensive Conservation Planning. Participation by these State and Tribal agencies shall not be subject to the Federal Advisory Committee Act.

(b) Identify Refuge Purpose(s), History, and Establishing Authority. Document the history of refuge establishment and management, as well as refuge purposes and authorizing authority (e.g., legislation [including wilderness designation, if applicable], executive orders, administrative memoranda) (see 601 FW 1). These will become driving forces in the process and subsequently be reflected in the refuge vision statement, goals, objectives, and strategies in the CCP.

(c) Identify Planning and Compliance Requirements and Special Designations. Review our agency and Refuge System mission statements and policies, as well as other existing legislation to help identify planning and compliance requirements. See Exhibit 3-2 for a list of laws and executive orders that may apply and Exhibit 3-3 for a checklist of elements we must include within a CCP. Identify and review other Service guidance such as Fulfilling the Promise: The National Wildlife Refuge System and mandates including laws, executive orders, regulations, and our policies, especially those with compliance requirements. Also review any existing special designation areas such as wilderness, research natural areas, wild and scenic rivers, wetlands of international importance (Ramsar sites), Western Hemisphere Shorebird Reserves, etc., and specifically address the potential for any new special designations. Concurrent with the CCP process we will conduct a wilderness review and incorporate a summary of the review into the CCP. (See Part 610 of the Service Manual for guidance on conducting wilderness reviews.) Complete the inventory phase of the review during preplanning. If a Wilderness Study Area is identified, proceed with the study and recommendation phases of the review. (Note: An EIS is the NEPA document we must include in a recommendation or report on a legislative proposal to Congress [40 CFR 1506.8]. This requirement applies to all CCPs that contain wilderness recommendations.)

(d) Purpose and Need for the Plan. The purpose of developing the CCP is to provide the Refuge Manager with a 15-year management plan for the conservation of fish, wildlife, and plant resources and their related habitats, while providing opportunities for compatible wildlife-dependent recreational uses. The CCP, when fully implemented, should achieve refuge purposes; help fulfill the Refuge System mission; maintain and, where appropriate, restore the ecological integrity of each refuge and the Refuge System; help achieve the goals of the National Wilderness Preservation System; and meet other mandates. The CCP must be specific to the planning unit and identify the overarching wildlife, public use, or management needs for the refuge.

(e) Planning Area and Data Needs. Delineate the planning area on a map. Identify the relationship between the planning unit and its ecosystem(s) and watershed(s) as well as relationships between the planning unit and any other refuges or other important fish and wildlife habitats in the vicinity. Identify data available to address issues discussed in Step (h) Internal Scoping. Obtain information from Federal, Tribal, State and local agencies, and private landowners concerning land management issues that may impact or relate to the planning unit. To assist in determining species or resources of concern, consult the following: Federal threatened and endangered species lists; Migratory Nongame Birds of Management Concern in the United States; Partners in Flight Watch List; State lists of rare, threatened, endangered, or species of concern; National Audubon Society State Watch Lists; The Nature Conservancy's heritage program and ranking system; as well as State heritage databases and conservation data centers for additional sources of information. Also identify resource experts familiar with the key species and habitats in the planning area, and consult with these experts during the development of habitat objectives. Base CCPs on a comprehensive assessment of the existing scientific literature. Potential sources of information include planning documents, EAs, EISs, annual narrative reports, information from previously conducted or ongoing research, data from refuge inventories or studies, published literature on related biological studies, State conservation management plans, field management experience, etc. While we may not be able to develop new data for the CCP, we may identify the need for further data collection. A lack of data should not delay the completion of the CCP. Identify and describe the following conditions and their trends for the planning unit and, as appropriate, for the planning area:

(i) Context of the planning unit in relation to the surrounding ecosystem.

(ii) Structures, components, and functions of the ecosystem(s) of which the planning unit is a part.

(iii) Natural and historic role of fire and other natural occurrences affecting ecological processes.

(iv) Past land use and history of settlement, including a description of any changes in topography, hydrology, and other factors.

(v) Current and historic description of the flora and fauna and the diversity of habitats and natural communities.

(vi) Distribution, migration patterns, and abundance of fish, wildlife, and plant populations, including any threatened or endangered species, and related habitats.

(vii) Fish, wildlife, and plants and their habitats and communities that are rare and/or declining within the ecosystem.

(viii) Water resources including quality and quantity.

(ix) Archaeological and other cultural resources.

(x) Significant problems that may adversely affect the ecological integrity or wilderness characteristics and the actions necessary to correct or mitigate the problems.

(xi) Identify opportunities to improve the health of habitats or the functioning of ecosystems.

(xii) Significant problems that may adversely affect the populations and habitats of fish, wildlife, and plants (including candidate, threatened, and endangered species) and the actions necessary to correct or mitigate the problems.

(xiii) Known or suspected sources of environmental contaminants and their potential impacts on the planning unit (refer to the Contaminant Assessment Program).

(xiv) Land acquisition or habitat protection efforts.

(xv) Habitat management practices.

(xvi) Existing administrative resources, including staffing, funding, and facilities.

(xvii) Existing transportation patterns and related visitor facilities.

(xviii) Potential need for administrative sites, transportation improvements, or visitor facilities and areas within the planning unit that are suitable for such sites.

(xix) Existing and potential opportunities for wildlife-dependent recreation.

(xx) Existing special management areas, or the potential for such designations (e.g., wilderness, research natural areas, and wild and scenic rivers).

(f) Review All Available Information, Plans, Data, Maps, and Data Standards. Based on this review, determine what the initial planning area includes and identify any additional information and data needs, including mapping and GIS needs. Note: All Federal agencies and their contractors must comply with data standards endorsed by the Federal Geographic Data Committee (Executive Order 12906; 59 FR 17671, April 13, 1994). Of particular relevance to refuge planning are the National Vegetation Classification Standard (FGDC-STD-005) and the Classification of Wetlands and Deep Water Habitats (FGDC-STD-004). Compliance with these standards will facilitate the sharing and exchange of high-quality vegetation and wetland data among Federal agencies and their partners. We also are developing other data standards, such as cartographic standards for delineation of refuge boundaries and land status.

(g) Vision and Goals. Review the existing planning unit vision statement and goals and determine the need for revision. If these do not exist, prepare a draft vision statement and goals for consideration during public scoping. The vision statement should focus on what will be different in the future because of our efforts, capture the essence of what we are trying to do, and why. It should be future-oriented, concise, clear, compelling, and give a sense of purpose to our efforts. At a minimum, each refuge should develop goals for wildlife species or groups of species, habitat (including land protection needs), compatible wildlife-dependent recreation, other mandates (such as refuge-specific legislation, executive orders, special area designations, etc.), and fish, wildlife, and plant populations, as appropriate. The vision statement and goals will reflect planning unit purposes; help fulfill the mission of the Refuge System; maintain and, where appropriate, restore ecological integrity; and will be consistent with mandates and principles of sound fish and wildlife management. Planning unit goals also will reflect our ecosystem goals to the extent these goals do not conflict with the Refuge System mission or the purposes for which the refuge was established. We also may develop refuge goals for our other mandates. Subsequently, we will develop objectives for achieving planning unit goals (see 602 FW 3.4 C (4)(d) Objective Development). For additional information on developing goals and objectives, see the current edition of Writing Refuge Management Goals and Objectives: A Handbook.

(h) Internal Scoping. Begin the internal scoping process by identifying management concerns, issues, and opportunities to resolve them, as well as any potential impacts and alternatives that we may need to address in the CCP and NEPA analysis. Review the background, rationale, and the success or failure of any controversial management actions and identify any additional information and data needed where appropriate.

(i) Public Involvement/Outreach Planning. Prepare a Public Involvement/Outreach Plan indicating how and when we will invite the affected public to participate in CCP development. This plan will include establishing a mailing list and identifying appropriate techniques and materials to use in public involvement. We integrate public involvement and outreach into each step, and it continues throughout the planning process. For additional information on public involvement techniques, consult the Public Participation Handbook (U.S. Fish and Wildlife Service, 1985) or the NCTC Refuge Comprehensive Conservation Planning Course Handbook and Reference Notebook.

(j) Work Plan/Planning Schedule. Establish a work plan or planning schedule for the CCP. Determine who will be responsible for carrying out identified tasks, gathering information and data, and preparing products identified in the work plan or schedule. Identify all key NEPA compliance steps and public involvement activities. Identify any additional expertise, besides the planning team, required to prepare the CCP. This may include an economist, a facilitator for public and other meetings, other contracted professional services, etc.

(k) Planning Record. Establish a planning record to document the preparation of the CCP and NEPA compliance, and assign its maintenance to a team member. The planning record will serve as a valuable reference and provide important background and historical information. If there is a legal challenge to the CCP, use the planning record to construct the administrative record. For additional information on the planning record, consult the NCTC Refuge Comprehensive Conservation Planning Course Handbook and Reference Notebook.

(2) Initiate Public Involvement and Scoping

(a) Notice of Intent. Prepare a Notice of Intent (NOI) to prepare a CCP, with appropriate NEPA compliance, and publish the NOI in the Federal Register. The NOI initiates public scoping for the CCP/NEPA planning and decision-making process. If we initially determine that we will prepare an EIS for the CCP, the NOI should specify that. If at any time during the planning process we decide to prepare an EIS, we will publish in the Federal Register a new NOI to prepare an EIS and provide additional time for the public to comment. Should we publish a new NOI, we will use news releases and other appropriate means to notify the public.

(b) Public Scoping. Using news releases to the local media and other appropriate means, notify the affected public of the opportunity to participate in the preparation of the CCP and begin the scoping process. Involve the public and gather comments on any existing planning unit vision statement and goals. Encourage the public to help identify potential issues, management actions and concerns, significant problems or impacts, and opportunities or alternatives to resolve them. Public scoping will continue until we prepare a draft CCP/NEPA document.

(c) Issues and Data Needs. Analyze all comments gathered and recorded during the scoping process. Identify any new information, issues, concerns, or significant problems, opportunities to resolve them, and potential refinements or revisions of any existing planning unit vision statement and goals. Based on this analysis, identify any additional information and data needed.

(3) Review Vision Statement and Goals and Determine Significant Issues

(a) Vision and Goals. Review and evaluate the public's comments on the planning unit vision statement and goals. Based on this review, modify the vision and goals for the planning unit as appropriate.

(b) Determine Significant Issues. Review and evaluate all potential issues, management concerns, and problems and the opportunities to resolve them that the planning team and the public have identified. Identify those issues and concerns that are significant, and the appropriate scale at which to consider those issues. Document the rationale for selecting significant issues, as well as the rationale for not selecting the other issues and concerns (e.g., outside the scope of the CCP, does not contribute to achieving refuge purposes, Refuge System mission, etc.). Significant issues typically are those that are: Within our jurisdiction, suggest different actions or alternatives, and will influence our decision. We will refer those issues identified outside the scope of refuge planning to the pertinent Service program office or division.

(4) Develop and Analyze Alternatives, Including the Proposed Action

This part of the process is not sequential, it is iterative. Iterative procedures in this step of the process include: Issue assessment; refinement and development of goals, objectives, and strategies; analysis and comparison of impacts and benefits of management actions; and the packaging or combining of similar themes or programs to develop preliminary alternatives and assessment of their environmental consequences. The alternatives should reflect different sets of objectives and strategies to achieve refuge purposes, vision, and goals, help fulfill the Refuge System mission, and resolve issues. Prepare maps depicting the different strategies reflected in each alternative. Also display this information in a matrix comparing issues, impacts, and benefits for each alternative.

(a) No Action Alternative. Define the No Action Alternative, which is usually a continuation of current planning unit objectives and management strategies, with no changes or changes that would have occurred without the CCP.

(b) A Range of Alternatives. Develop a range of alternatives, or different approaches to planning unit management, that we could reasonably undertake to achieve planning unit goals and refuge purposes; help fulfill the Refuge System mission; maintain and, where appropriate, restore the ecological integrity of each refuge and the Refuge System; help achieve the goals of the National Wilderness Preservation System; meet other mandates, and resolve any significant issues identified. Alternatives consist of different sets of objectives and strategies for management of the refuge. Give equal effort to each alternative regarding specific objectives and strategies so that the decision maker can make an informed choice. NEPA requires an equal and full analysis of all alternatives considered for implementation.

(c) Proposed Action. The planning team will recommend a proposed action in the NEPA document for the CCP identifying the alternative that best achieves planning unit purposes, vision, and goals; helps fulfill the Refuge System mission; maintains and, where appropriate, restores the ecological integrity of each refuge and the Refuge System; addresses the significant issues and mandates; and is consistent with principles of sound fish and wildlife management. The proposed action is, for all practical purposes, the draft CCP for the planning unit.

(d) Objective Development. Develop objectives to address each goal. Word objectives so it is clear what we can measure during monitoring to assess progress toward their attainment. Consult the Service Manual chapters on habitat management, populations management, wilderness management, and wildlife-dependent recreation during the development of objectives. Develop detailed, measurable objectives using available scientific literature and other appropriate information. Develop objectives with consideration of regional and Service ecosystem goals and objectives. Develop objectives for specific refuge habitat types, management units, key species (e.g., migratory birds and threatened and endangered species), wildlife-dependent recreation, monitoring populations of fish, wildlife, and plants and their habitats, and other areas of management, as appropriate. Objectives also may deal with refuge information needs (for example, including the development of baseline data), administrative needs, and any other issues we need to address to meet the goals of the refuge. Document in a short narrative summary the rationale, including appropriate literature citations, that supports each objective. Also consult the current edition of Writing Refuge Management Goals and Objectives: A Handbook. Developing detailed objectives at this stage will expedite development of step-down management plans when required.

(e) Strategy Development. Develop strategies to identify the specific actions, tools, or techniques that are necessary to accomplish each objective. Strategies represent specific projects that provide the detail required to assess and develop funding, staffing, and partnerships needed to implement the plan. Develop inventory and monitoring strategies to measure implementation results in quantifiable and verifiable ways. We may require step-down management plans to provide the specific details of how to achieve goals and objectives identified in the CCP.

(f) Environmental Consequences. Assess the environmental consequences (direct, indirect, and cumulative) of implementing each alternative as required by NEPA. Compare the consequences of implementing each alternative in relation to the No Action Alternative, which serves as a baseline. Describe the adverse and beneficial impacts of implementing each alternative on fish, wildlife, and plants, and their habitats; any threatened or endangered species; cultural resources; the local economy; the ability to provide opportunities for compatible wildlife-dependent recreational uses; conflicts between priority uses and other uses; and other issues identified earlier in the planning process. This analysis must provide the level of detail necessary to assess the compatibility of all proposed uses. Describe each alternative's ability to achieve planning unit purpose(s), vision, and goals; help fulfill the Refuge System mission; ensure that we maintain and, where appropriate, restore the ecological integrity of each refuge and the Refuge System; and address the significant issues and mandates. This assessment also will identify the funding, staffing, and facilities required for implementation of each alternative.

(5) Prepare Draft Plan and NEPA Document

(a) Draft CCP and NEPA Document. Concurrently prepare the draft CCP and appropriate NEPA documentation (EA or EIS). When preparing an EA, consider integrating the draft CCP with the EA. When preparing an EIS with a CCP, integrate the documents. If the decision is to prepare a separate EA, see Exhibit 3-4 for a recommended CCP outline. If the documents are separate, the proposed action in the EA must contain all of the major actions of the draft CCP. If the decision is to merge the CCP and EA, see Exhibit 3-5 for a recommended outline. During the process of preparing the CCP, refer to Exhibit 3-3 to ensure inclusion of all required elements in the plan. Ensure compliance regarding other programs and policies, including: Section 7 of the Endangered Species Act; Sections 401 and 404 of the Clean Water Act; Sections 106 and 110 of the National Historic Preservation Act; Section 14 of the Archaeological Resources Protection Act; Executive Order 13007—Indian Sacred Sites; Executive Order 11988—Floodplain Management; Executive Order 11990—Protection of Wetlands; etc. See Exhibit 3-2 for a list of mandates to consider during the planning process.

(b) Compatibility Determinations. Complete new compatibility determinations or re-evaluate existing compatibility determinations as part of the CCP process for all individual uses, specific use programs, or groups of related uses associated with the proposed action. Prepared concurrently with the CCP, incorporate the draft compatibility determinations into the draft CCP as an appendix. We require public review and comment for all compatibility determinations. We can achieve this concurrently through public review and comment of the draft CCP and NEPA document. While other alternatives do not require compatibility determinations, assess the environmental consequences, and, for all practical purposes, compatibility of all uses proposed in those alternatives in the NEPA document. For additional information on compatibility determinations, see 603 FW 2.

(c) Pre-acquisition Compatibility Determinations. If our proposed action includes expanding the planning unit by acquiring new lands, the draft CCP and NEPA documents also must identify any existing wildlife-dependent recreational public uses deemed compatible that we will allow to continue after acquisition. Incorporate these pre-acquisition compatibility determinations into the draft CCP and NEPA document.

(d) Internal Review. Submit the draft CCP and NEPA document for internal review within the Region following established procedures. Include in the review refuge program managers, ecosystem managers, refuge staff and other appropriate Service programs and divisions, as well as other agency partners. Also submit these documents for internal review to the Regional and Washington Office Planning Coordinators. Consider all comments received from the internal reviews and make appropriate changes to the draft document. Print the draft CCP and NEPA document and prepare for public review.

(e) Public Notice, Review, and Comment. Prepare a Notice of Availability of the draft CCP and NEPA document and publish it in the Federal Register. Notify the affected public of the availability of these documents through other appropriate means, as identified in the Public Involvement/Outreach Plan. Public notices will make clear that we are seeking concurrent review on compatibility determinations. Provide a minimum of 30 days for public review of a draft CCP with an EA and 45 days for a draft CCP with an integrated EIS. Make copies of the draft CCP and NEPA document available to appropriate elected officials; Federal, State, and local agencies; Tribal governments; organizations; libraries (including NCTC); resource experts; adjacent landowners; and individuals requesting them. Conduct appropriate public involvement activities as called for in the Public Involvement/Outreach Plan. Document all public comments, both written and oral, received on the draft CCP and NEPA document as part of the planning record.

(6) Prepare and Adopt Final Plan

(a) Public Comment, Analysis, and Response. Review and analyze all written and oral comments received from the public on the draft CCP and NEPA document. Determine which comments are substantive and warrant written response. Modify the document(s) as appropriate. Prepare a summary of the public comments received and a statement of the disposition of concerns expressed in those comments, noting where we have changed the document(s) or why we did not make such changes. Incorporate the summary and statement of disposition into the final document(s) (usually in the NEPA document or a CCP appendix).

(b) Final CCP and NEPA Document(s). Identify the preferred alternative and prepare the final CCP and appropriate NEPA documentation. The preferred alternative can be the proposed action, the no action alternative, another alternative, or a combination of actions or alternatives discussed in the draft CCP and NEPA document. Following completion of the final CCP/NEPA document, the product of the CCP process is a stand-alone CCP (the preferred alternative for the planning unit). During the process of preparing the final plan, refer to Exhibit 3-3 to ensure inclusion of all required elements.

(c) Internal Review. Submit the final document(s) for internal review within the Region according to established procedures. Refer to 3.4 C (5)(d) for a list of those to include in the review. Consider all comments received from the internal review and make appropriate changes to the final document(s).

(d) Decision Document. The decision document (either a Finding of No Significant Impact [FONSI] or a Record of Decision [ROD]) will certify that we have met agency compliance requirements and that the CCP, when implemented, will achieve the purposes of the refuge and help fulfill the Refuge System mission.

(i) CCP with an EA and FONSI. The Refuge Manager and Planning Team Leader submit the final CCP and FONSI through line supervision for concurrence and approval by the Regional Director. The Regional Director will sign and date both the FONSI and the final CCP. Following approval, print and distribute the final document(s) and appropriate appendices. Provide the FONSI to all interested and affected parties. Concurrent with the distribution of the FONSI, provide the final, approved, stand-alone CCP or a summary to all interested parties. In some cases we may require a 30-day public review period for the FONSI (see 550 FW 3.3 B (4)(c)). In these cases, we may not sign or release the final CCP until the end of the 30-day review.

(ii) CCP with an EIS and ROD. The Refuge Manager and Planning Team Leader submit the final EIS/CCP through line supervision for concurrence and approval to release these documents to the public. Provide these documents to interested and affected parties for at least 30 days prior to issuing a ROD. Following this period, submit the ROD through line supervision for concurrence and approval by the Regional Director. The Regional Director will sign and date both the ROD and the final CCP. Following approval, print the final documents and appropriate appendices. Provide the ROD or notification of its availability to all interested and affected parties. Concurrent with the release of the ROD, provide or make available the final, approved, stand-alone CCP or a summary to interested parties. Effective with the signing and release of the ROD, implement the CCP.

(iii) Stand-Alone CCP. The final product of the CCP process is a stand-alone CCP (the preferred alternative for the planning unit).

(e) Public Notice. Prepare a Notice of Availability of the final approved CCP and NEPA document(s) and publish it in the Federal Register. Notify the affected public of the availability of the final document(s) through other appropriate means, as identified in the Public Involvement/Outreach Plan. Send copies of all final documents to the Regional and Washington Office Planning Coordinators. Make copies of the final approved CCP and NEPA document(s) available to appropriate elected officials; Federal, State, and local agencies; Tribal governments; organizations; libraries (including NCTC); adjacent landowners; and individuals requesting them.

(7) Implement Plan, Monitor, and Evaluate

Following approval of the CCP and public notification of the decision, begin implementing the strategies identified in the CCP. Allocate funding and staff time to the priority strategies as defined in the CCP. Initiate the monitoring and evaluation process identified in the CCP to determine if we are making progress in achieving the planning unit purpose(s), vision, and goals. Monitoring should address habitat or population objectives, and the effects of management activities. See 701 FW 2. Describe the sampling design sufficiently so it may be replicated. Through adaptive management, evaluation of monitoring and research results may indicate the need to modify refuge objectives or strategies.

(8) Review and Revise Plan

(a) Plan Review. Review the CCP at least annually to decide if it requires any revisions. Modify the plan and associated management activities whenever this review or other monitoring and evaluation determine that we need changes to achieve planning unit purpose(s), vision, and goals.

(b) Plan Revision. Revise the CCP when significant new information becomes available, ecological conditions change, major refuge expansion occurs, or when we identify the need to do so during plan review. This should occur every 15 years or sooner, if necessary. All plan revisions should follow the procedures outlined in this policy for preparing plans and will require NEPA compliance. Document minor plan revisions that meet the criteria of a categorical exclusion in an Environmental Action Statement, in accordance with 550 FW 3.3 C. Contact the Regional NEPA Coordinator for an up-to-date list of categorical exclusions and for other NEPA assistance. If the plan requires a major revision, then the CCP process starts anew at the preplanning step. See 602 FW 3.4 C (1).

(c) Ongoing Public Involvement. Continue informing and involving the public through appropriate means.

BILLING CODE 4310-55-P

BILLING CODE 4310-55-C

Exhibit 3-2.—Mandates To Consider During Comprehensive Conservation Planning

| Yes/No
Applicable Statutes:
Alaska National Interest Lands Conservation Act of 1980, as amended | __________
American Indian Religious Freedom Act of 1978 | __________
Americans With Disabilities Act of 1990 | __________
Anadromous Fish Conservation Act of 1965, as amended | __________
Antiquities Act of 1906 | __________
Archaeological and Historic Preservation Act of 1974 | __________
Archaeological Resources Protection Act of 1979, as amended | __________
Bald and Golden Eagle Protection Act of 1940, as amended | __________
Clean Air Act of 1970 | __________
Clean Water Act of 1974, as amended | __________
Coastal Zone Management Act of 1972, as amended | __________
Emergency Wetlands Resources Act of 1986 | __________
Endangered Species Act of 1973, as amended | __________
Farmland Protection Act of 1981, as amended | __________
Federal Cave Protection Act of 1988 | __________
Federal Noxious Weed Act of 1990 | __________
Fish and Wildlife Act of 1956 | __________
Fish and Wildlife Coordination Act of 1958 | __________
Fishery (Magnuson) Conservation and Management Act of 1976 | __________
Marine Mammal Protection Act of 1972, as amended | __________
Migratory Bird Conservation Act of 1929 | __________
Migratory Bird Hunting and Conservation Stamp Act of 1934 | __________
Migratory Bird Treaty Act of 1918, as amended | __________
National Environmental Policy Act of 1969 | __________
National Historic Preservation Act of 1966, as amended | __________
National Wildlife Refuge System Administration Act of 1966, as amended | __________
Native American Graves Protection and Repatriation Act of 1990 | __________
Refuge Recreation Act of 1962, as amended | __________
Rivers and Harbors Act of 1899 | __________
Water Resources Planning Act of 1965 (sole-source aquifers) | __________
Wild and Scenic Rivers Act of 1968, as amended | __________
Wilderness Act of 1964, as amended | __________
Applicable Executive Orders:
Executive Order 11644, Use of Off-Road Vehicles on Public Lands | __________
Executive Order 11987, Exotic Organisms | __________
Executive Order 11988, Floodplain Management | __________
Executive Order 11990, Protection of Wetlands | __________
Executive Order 12898, Environmental Justice for Minority Populations | __________
Executive Order 12962, Recreational Fisheries | __________
Executive Order 12996, Management and General Public Use of the National Wildlife Refuge System | __________
Executive Order 13007, Indian Sacred Sites | __________
Executive Order 13084, Consultation and Coordination With Indian Tribal Governments | __________
Note: This list is not all inclusive. There may be other executive orders and statutes that apply to a particular planning unit.

Exhibit 3-3.—Checklist of Required Comprehensive Conservation Plan Elements

__Short description of the planning unit to include:

__Size

__Establishment date

__Regional setting (include area map)

__Land acquisition or habitat protection efforts

__Current management (including a map)

__Current staffing

__Existing partnerships

__Purpose(s) for which the refuge was established

__Past land use and history of settlement, including a description of any changes in topography, hydrology, and other factors

__Existing transportation patterns and related visitor facilities

__Habitat management practices

__Refuge System mission and goals.

__Ecosystem goals and objectives.

__Goals and objectives for other landscape-level plans.

__National goals and objectives for species, species groups, habitats and communities, or programs (e.g., shorebirds, an endangered species, priority public use program).

__Identify any mandates that apply to the area or the proposed plan.

__Description of the planning unit environment to include:

__distribution, migration patterns, and abundance of fish, wildlife, and plant populations, including any threatened or endangered species and related habitats;

__current and historic description of the flora and fauna, and the diversity of habitats and natural communities;

__wildlife habitat and species relationships;

__ability of the planning unit to meet the habitat needs of fish, wildlife, and plants, as they occur throughout their natural ranges;

__vegetation types (Federal Geographic Data Committee compliant map required);

__vegetation/land cover and wildlife habitat relationships;

__significant problems that may adversely affect the ecological integrity or wilderness characteristics and the actions necessary to correct or mitigate the problems;

__context of the planning unit in relation to the surrounding ecosystem;

__structures, components, and functions of the ecosystem(s) of which the planning unit is a part;

__fish, wildlife, and plants and their habitats and communities that are rare and/or declining within the ecosystem;

__archaeological and cultural resources of the planning unit;

__refuge land status map;

__natural and historic role of fire and other natural occurrences affecting ecological processes;

__existing special management areas (e.g., wilderness, wild and scenic rivers);

__relationship between the planning unit and other refuges and protected areas.

__Document and describe the following:

__significant problems that may adversely affect the populations and habitats of fish, wildlife, and plants within the planning unit (including candidate, threatened, and endangered species) and the actions necessary to correct or mitigate such problems;

__water resources including quantity and quality;

__known or suspected sources of environmental contaminants and their potential impacts on the planning unit (refer to the Contaminant Assessment Program);

__potential for special management area designations (e.g., wilderness, research natural areas, and wild and scenic rivers);

__summary of management history;

__other significant issues of management or public concern;

__existing and potential opportunities for wildlife-dependent recreation;

__existing administrative resources, including staffing, funding, and facilities;

__potential need for administrative sites, transportation improvements, or visitor facilities and areas within the planning unit that are suitable for such sites.

__Vision statement.

__Goals for at least the following areas:

__wildlife species or groups of species;

__habitat (including land protection needs);

__fish, wildlife, and plant populations, as appropriate;

__compatible wildlife-dependent recreation;

__others as needed to meet mandates (such as refuge-specific legislation, executive orders, special area designations, etc.).

__Objectives for each goal.

__Strategies to achieve each objective.

__Map(s) of desired future conditions (e.g., habitat management areas, facilities, wildlife-dependent recreation sites, etc.).

__Identification of step-down management plans required to fully implement the CCP.

__Prioritized list of projects and estimated project costs (update priorities and cost estimates annually).

__Staffing and funding required to implement the plan.

__Potential partnership opportunities.

__Monitoring plan to evaluate the effectiveness of the plan and project implementation, including monitoring of target fish, wildlife, and plant populations and their habitats.

__Summary of public involvement process, comments received and their disposition, and consultation and coordination with other Federal agencies, State conservation agencies, and adjacent landowners.

__Compatibility determinations (including pre-acquisition compatibility determinations).

__Wilderness review.

__Habitat/Land Protection Plans (if applicable).

__NEPA documentation.

Exhibit 3-4.—Refuge Comprehensive Conservation Plan Recommended Outline

Cover Sheet

Title/Approval Page

Acknowledgments

Table of Contents

Summary

I. Introduction/Background

Refuge Overview: History of Refuge Establishment, Acquisition, and Management

Purpose of and Need for Plan

NWRS Mission, Goals, and Guiding Principles

Refuge Purpose(s)

Refuge Vision Statement

Legal and Policy Guidance

Existing Partnerships

II. Planning Process

Description of Planning Process

Planning Issues

III. Summary Refuge and Resource Descriptions

Geographic/Ecosystem Setting

Refuge Resources, Cultural Resources, and Public Uses

Special Management Areas

IV. Management Direction

Refuge Management Direction: Goals, Objectives, and Strategies

Refuge Management Policies and Guidelines

V. Implementation and Monitoring

Funding and Personnel

Step-Down Management Plans

Partnership Opportunities

Monitoring and Evaluation

Plan Amendment and Revision

Appendices

Glossary

Bibliography

RONS List

MMS list

Compatibility Determinations

Habitat/Land Protection Plan(s)

Compliance Requirements

NEPA Documentation

Summary of Public Involvement/Comments and Consultation/Coordination

Mailing List

List of Preparers

Others, as appropriate

Exhibit 3-5.—EA or EIS Incorporating Elements of a CCP Recommended Outline

Cover Sheet

Acknowledgments

Table of Contents

Summary

I. Introduction, Purpose of and Need for Action

Purpose of and Need for Plan

NWRS Mission, Goals, and Guiding Principles

History of Refuge Establishment, Acquisition, and Management

Legal and Policy Guidance

Refuge Purpose(s)

Refuge Vision Statement

Refuge Management Direction: Goals

Refuge Management Policies and Guidelines

Step-Down Management Plans

Description of Planning Process

Planning Issues

Plan Amendment and Revision

II. Alternatives, Including the Service's Proposed Action

Description of Each Alternative (also include maps depicting strategies for each alternative)

Refuge Management Direction: Objectives and Strategies

Funding and Personnel

Partnership Opportunities

Monitoring and Evaluation

Alternatives Considered, but Eliminated from Detailed Study

Summary Comparison of Alternatives

III. Affected Environment

Geographic/Ecosystem Setting

Refuge Resources, Cultural Resources, and Public Uses

IV. Environmental Consequences

Environmental Effects of Each Alternative (also include a matrix comparing issues, impacts, and benefits for each alternative)

V. List of Preparers

VI. Consultation and Coordination with Others

Summary of Public Involvement/Comments

Mailing List

Appendices

Glossary

Bibliography

RONS List

MMS List

Compatibility Determinations

Habitat/Land Protection Plan(s)

Compliance Requirements

Others, as appropriate

Refuge Management—Part 602 National Wildlife Refuge System Planning

Chapter 4 Step-Down Management Planning—602 FW 4

4.1 What is the purpose of this chapter? This chapter provides guidance on step-down management planning.

4.2 What is our policy for step-down management planning? The U.S. Fish and Wildlife Service (Service or we) will prepare step-down management plans when required by policy or when they may be necessary to provide strategies and implementation schedules for meeting goals and objectives identified in Comprehensive Conservation Plans (CCPs). Step-down management plans should include public involvement and National Environmental Policy Act (NEPA) compliance documentation, as appropriate. Develop step-down management plans following the planning process guidance in 602 FW 1 and 602 FW 3.

4.3 What is the applicability of step-down management planning and its relationship to Comprehensive Conservation Plans?

A. Step-down management planning is the formulation of detailed plans for meeting goals and objectives identified in the CCP.

B. Step-down management plans describe the specific strategies and implementation schedules we are to follow, “stepping down” from general goals and objectives. The preparation of new step-down management plans or substantial changes to existing step-down management plans typically will require further compliance with NEPA and other policies, and an opportunity for public review. For public use plans or other step-down management plans dealing with proposed uses of the refuge, prepare and append compatibility determinations to the plans.

C. The CCP will identify which step-down management plans are necessary and provide a schedule for their completion. After completion of the CCP, modify existing step-down management plans as needed to accomplish stated objectives. See 602 FW 3. In the absence of an approved CCP, we will develop step-down management plans to describe goals, objectives, strategies, implementation schedules, and details necessary to implement a management program.

D. As an alternative to separate step-down management plans, we may address management programs in detail during preparation of the CCP. Determining which programs we can address in detail in the CCP depends on several factors, including the degree of public interest, the amount of available information, and the complexity of the issues.

4.4 How do we combine step-down management plans? Address management subjects individually or combined into a single, integrated step-down management plan. This decision rests with the Refuge Manager. Base the decision on strategies defined in the CCP, the relationship between program areas, and the complexity of the programs under consideration. Some program areas, such as fire management and habitat management, logically suggest an integrated approach.

4.5 What is the list of potential step-down management plans? Following is the current list of potential refuge step-down management plans. Consider all of these plans during the CCP process. The CCP will document which plans we require for the planning unit.

Step-down management plans | Service manual reference
Occupational Safety and Health | (Parts 240-249)
Safety Program | (240 FW 1-9)
Safety Operations | (241 FW 1-9)
Industrial Hygiene | (242 FW 1-13)
Hazardous Materials Operations | (242 FW 6)
Water Rights | (Part 403)
Policy, Objectives, and Responsibilities | (403 FW 1)
Law Enforcement | (Parts 440-459)
Pollution Control | (Parts 560-569)
Policy and Responsibilities | (560 FW 1)
Pollution Prevention | (560 FW 2)
Compliance Requirements | (Part 561)
Clean Water Act | (561 FW 3)
RCRA—Hazardous Waste | (561 FW 6)
Pesticide Use and Disposal | (Part 562)
Pest Management | (562 FW 1)
External Threats to FWS Facilities | (Part 563)
Air Quality Protection | (563 FW 2)
National Wildlife Refuge System (NWRS) Uses | (Part 603)
NWRS Uses (Appropriate Refuge Uses) | (603 FW 1)
Priority Wildlife-Dependent Recreation | (Part 605)
Hunting | (605 FW 2)
Fishing | (605 FW 3)
Wildlife Observation | (605 FW 4)
Wildlife Photography | (605 FW 5)
Environmental Education | (605 FW 6)
Interpretation | (605 FW 7)
Wilderness Management | (Part 610)
Special Area Management | (Part 611)
Research Natural Areas | (611 FW 1)
Public Use Natural Areas | (611 FW 2)
Wild and Scenic Rivers | (611 FW 3)
National Trails | (611 FW 4)
Man in the Biosphere Reserve
Western Hemisphere Shorebird Reserves
Ramsar Convention on Wetlands
Minerals Management | (Part 612)
Minerals and Mining | (612 FW 1)
Oil and Gas | (612 FW 2)
Cultural Resources Management | (Part 614)
Habitat Management Planning | (Part 620)
Fire Management | (Part 621)
Population Management | (Part 701)
Inventory and Monitoring | (701 FW 2)
Propagation and Stocking | (701 FW 3)
Marking and Banding | (701 FW 4)
Disease Prevention and Control | (701 FW 7)
Trapping | (701 FW 11)
Fishery Resources Management | (Part 710)
Exotic Species | (Part 751)

Dated: May 16, 2000.
Jamie Rappaport Clark,
Director.

[FR Doc. 00-12931 Filed 5-24-00; 8:45 am]

BILLING CODE 4310-55-P